DEPARTMENT OF COMMERCE

Bureau of Industry and Security

15 CFR Parts 736, 738, 740, 742, 744, 746, 748, 750, 758, 762, 772 and 774

[Docket No. 140221165-4165-01]

RIN 0694-AG11

Corrections and Clarifications to the Export Administration Regulations; Conforming Changes to the EAR Based on Amendments to the International Traffic in Arms Regulations

AGENCY: Bureau of Industry and Security, Commerce.

ACTION: Final rule.

SUMMARY: This final rule makes corrections and clarifications to the Export Administration Regulations (EAR) for six final rules published in 2013 and early 2014. This final rule also makes other needed technical corrections and clarifications to the EAR identified by BIS. In addition, this final rule makes two conforming changes to the EAR as a result of a final rule published by the Department of State on April 17, 2014.

DATES: Effective Date: This rule is effective June 5, 2014, except that amendatory instructions 44, 45, 47, 50, 51, 52, 53.a, 54, 55, 56.a, 58, 63, 65, 70, 71, and 72.a to Supplement No. 1 to part 774 are effective July 1, 2014.

FOR FURTHER INFORMATION CONTACT: Timothy Mooney, Regulatory Policy Division, Bureau of Industry and Security, Department of Commerce, Phone: (202) 482-2440, Fax: (202) 482-3355, Email: rpd2@bis.doc.gov.

SUPPLEMENTARY INFORMATION:

Background

This final rule makes corrections and clarifications to the Export Administration Regulations (EAR) for six final rules published in 2013 and early 2014. These corrections and clarifications to the EAR are necessary in light of earlier amendments to the EAR that are already in effect, as well as for a final rule published on January 2, 2014, that becomes effective July 1, 2014. The Bureau of Industry and Security (BIS) is correcting all six rules in this single final rule to minimize the number of correction rules for the public to review and because they are similar types of corrections and clarifications. The six final rules that are being corrected in this rule are: Export Administration Regulations: Editorial Clean-Up of References to Foreign Trade Regulations published on January 29, 2014 (79 FR 4613) (referred to hereafter as the January 29 rule); Control of Military Training Equipment, Energetic Materials, Personal Protective Equipment, Shelters, Articles Related to Launch Vehicles, Missiles, Rockets, Military Explosives, and Related Items published on January 2, 2014 (79 FR 264) (referred to hereafter as the January 2 rule); Revisions to the Export Administration Regulations (EAR): Unverified List (UVL) published on December 19, 2013 (78 FR 76741) (referred to hereafter as the December 19 rule); Revisions to the Export Administration Regulations (EAR) To Make the Commerce Control List (CCL) Clearer published on October 4, 2013 (78 FR 61874) (referred to hereafter as the October 4 rule); Revisions to the Export Administration Regulations: Military Vehicles; Vessels of War; Submersible Vessels, Oceanographic Equipment; Related Items; and Auxiliary and Miscellaneous Items That the President Determines No Longer Warrant Control Under the United States Munitions List published on July 8, 2013 (78 FR 40892) (referred to hereafter as the July 8 rule); and Revisions to the Export Administration Regulations: Initial Implementation of Export Control Reform published on April 16, 2013 (78 FR 22660) (referred to hereafter as the April 16 rule). This final rule also makes other needed technical corrections and clarifications to the EAR that BIS has identified.

The background section of this final rule describes these corrections and clarifications in the following order: (A) January 29 rule corrections and clarifications, (B) January 2 rule corrections and clarifications, (C) December 19 rule corrections and clarifications, (D) October 4 rule corrections and clarifications, (E) July 8 rule corrections and clarifications, (F) April 16 rule corrections and clarifications, and (G) other corrections and clarifications to the EAR.

(A) January 29 Rule Corrections and ClarificationS

BIS provides the following corrections to the January 29 rule, which became effective upon publication. The corrections included in this final rule for the January 29 rule become effective on the date of publication of this final rule.

In Supplement No. 2 to part 736—Administrative Orders, Administrative Order Two, under paragraph (a)(3), the January 29 rule used the term “Administration Order,” but the rule intended to use the term “Administrative Order.” This final rule removes the term “Administration Order” and adds in its place the correct term “Administrative Order.”

In § 740.15(c)(2)(iv), the January 29 rule revised this paragraph to use the phrase “filed to the Automated Export System (AES),” but the January 29 rule also added in the same sentence the phrase “record is filed” in that same paragraph after “(AES)”. This final rule deletes the redundant phrase “record is filed” after “(AES)” because the phrase “filed to” is also used in the same paragraph when referring to AES.

In § 758.1(b)(3), this rule reinserts text that was inadvertently removed in the January 29 rule. The reinserted text originally was added to paragraph (b)(3) in Revisions to the Export Administration Regulations (EAR): Initial Implementation of Export Control Reform; Correction published on October 3, 2013 (78 FR 61744). This final rule reinserts the phrase “or otherwise described” after the term “enumerated” in paragraph (b)(3).

(B) January 2 Rule Corrections and Clarifications

BIS provides the following corrections and clarifications to the January 2 rule, which becomes effective on July 1, 2014. These include correcting typographical errors and inserting omitted quotation marks and other text for consistency with other provisions of the Commerce Control List (CCL) set forth in Supplement No. 1 to part 774 of the EAR. All of the corrections and clarifications in this Section B are to Export Control Classification Numbers (ECCNs).

Typographical Errors and Other Corrections for January 2 Rule

ECCNs 0A604, 0A614, 0A988, 0B604, 0B614, 1C239, and 1C608. This final rule corrects the capitalization in the headings of these seven ECCNs, so only the first term of the heading is capitalized. This final rule makes this change for consistency with the format used in other ECCN headings on the CCL.

ECCNs 0B604, 0B614, 0D001, 0D604, 0D614, 0E001, 0E604, 0E614, 1A613, 1B608, 1B613, 1C018, 1C608, 1D018, 1D608, 1D613, 1E001, 1E101, 1E201, 1E608, 9A604, 9B115, 9B116, 9B604, 9D001, 9D002, 9D003, 9D104, 9D604, 9E001, 9E101, 9E102, and 9E604. This final rule corrects a typographical error in the headings of these ECCNs by adding a period at the end of each of these headings. This final rule makes this change for consistency with the format used in other ECCN headings on the CCL.

ECCN 0E614. This final rule corrects a typographical error in ECCN 0E614 by adding a comma between the terms “repair” and “overhaul” in paragraph .a under the “Items” heading in the List of Items Controlled section.

ECCNs 0D001, 1A007, 1D018, and 1E001. This final rule adds quotation marks to the term “specially designed” in these ECCNs for consistency with the use of quotation marks for this defined term when used on the CCL.

ECCNs 0A604, 0A614, 1A005, 1A613, 1B608, 1C239, 9A604, 9D001, 9D002, 9D003, 9D104, 9E001, 9E002, 9E101, and 9E102. This final rule adds quotation marks to the term “subject to the ITAR” where not already present in these ECCNs for consistency with the use of quotation marks for this defined term when used on the CCL.

Conforming Changes and Clarifications for January 2 Rule

In addition, BIS makes changes to the CCL to conform to text adopted in the October 4 rule. These changes are not substantive, but rather address needed conforming changes for consistency of the CCL and the changes included in the October 4 rule.

ECCNs 0D604, 0E604, 1A613, 1D608, 1E608, 9D604, and 9E604. This final rule corrects the heading of these ECCNs to add the phrase “(see List of Items Controlled).” This correction is needed because each of these ECCNs includes a description of “items” that are classified under the “Items” paragraph in the List of Items Controlled section. Therefore, these ECCN headings should include the phrase “(see List of Items Controlled)” at the end of each of these headings.

ECCN 1A613. This final rule revises the “items” paragraph in the List of Items Controlled section to add in paragraph (e) a specific description of a type of personal protective “equipment” “specially designed” for military applications that are controlled under this ECCN, namely atmospheric diving suits “specially designed” for rescue operations for submarines controlled by the USML or the CCL. The general control on protective personnel equipment that was in paragraph (e) has been moved to paragraph (f). These changes do not result in new controls because such diving suits were within the scope of the general control on protective personnel equipment (that is not in paragraph (f)). BIS is making this clarifying change in response to questions from the public regarding where such diving suits were controlled.

BIS further intends for this clarification to help resolve any misunderstanding that may have resulted from an erroneous statement published in the Federal Register on June 7, 2012 in the preamble to a proposed rule. (Revisions to the Export Administration Regulations (EAR): Control of Personal Protective Equipment, Shelters, and Related Items the President Determines No Longer Warrant Control Under the United States Munitions List (USML), 77 FR 33688, 33689). That proposed rule included the phrase, “BIS proposed to move anti-gravity suits, pressure suits, and atmosphere diving suits, currently controlled in the USML under Category X(a)(3), (a)(4), and (a)(5), respectively, to ECCN 9A610 in the November 7 proposed rule” (referring to Revisions to the Export Administration Regulations (EAR): Control of Aircraft and Related Items the President Determines No Longer Warrant Control Under the United States Munitions List (USML) (76 FR 68675, Nov. 7, 2011)). BIS's June 7 statement was correct with respect to USML Category X(a)(3) and (a)(4), but erroneous with respect to USML Category X(a)(5), because articles controlled under USML Category X(a)(5) were not proposed to move to ECCN 9A610 in the November 7 rule.

BIS has also received questions regarding how anti-gravity suits (“G-suits”) and pressure suits capable of operating at altitudes higher than 55,000 feet above sea level are classified on the CCL. Because these suits are already classified under ECCN 9A610 under “items” paragraphs (g), which relates to suits used in aircraft, they are not classified under ECCN 1A613 and no further changes to the CCL are necessary. To make this clearer to the public, this final rule also adds a new “Related Controls” paragraph (3) to ECCN 1A613 to alert persons reviewing ECCN 1A613 to also see ECCN 9A610.g for anti-gravity suits (“G-suits”) and pressure suits capable of operating at altitudes higher than 55,000 feet above sea level.

(C) December 19 Rule Corrections and Clarifications

BIS provides the following correction to the December 19 rule, which became effective on January 21, 2014.

In § 762.2 (Records to be retained), the December 19 rule revised paragraph (b)(13) to reference § 744.15(b). In revising this paragraph, BIS inadvertently overwrote text in (b)(13) that was added in the April 16 rule that BIS did not intend to remove. This final rule corrects this error by making three changes to § 762.2. Specifically, this final rule: (1) Reinserts the April 16 rule text into paragraph (b)(13); (2) adds a new paragraph (b)(52) for the recordkeeping text that was intended to be added to (b)(52) in the December 19 rule, as well as making punctuation changes needed because of the addition of (b)(52); and (3) adds new paragraph (b)(53) described below in Section F (Other corrections and clarifications to the EAR).

(D) October 4 Rule Corrections and Clarifications

BIS provides the following corrections and clarifications to the October 4 rule, which became effective in part on October 15, 2013, and in part on January 6, 2014. These include correcting typographical errors, inserting omitted quotation marks, and redesignating certain paragraphs to make those paragraphs easier to identify. In addition, this final rule makes corrections and clarifications to the CCL and other parts of the EAR to conform to the practices established in the October 4 rule, as well as for consistency with other final rules.

Typographical Errors and Other Corrections for October 4 Rule

ECCNs 1A004, 1A101, 1C111, 2B350, 3E982, 5A002, 6A998, 7D101, 8E001, and 9A990. This final rule corrects typographical errors in these ECCNs, such as adding an “s” at the end of the term “chemical warfare agent” in ECCN 1A004 and removing the word “which” in “Related Controls” paragraph (2) of ECCN 1A101 because it is not needed.

ECCNs 1A001, 2A291, 3A001, 5A001, 5B001, and 6A004. This final rule adds quotation marks to defined terms, such as “specially designed,” “components,” “accessories,” and “attachments” in these ECCNs for consistency with the use of quotation marks established in the October 4 rule.

ECCNs 4A003 and 7E002. This final rule corrects the paragraph designation used in the “Related Controls” paragraphs in ECCN 7E002 to make these paragraphs easier to identify. This final rule also corrects the paragraph designation for “Note 1” to ECCN 4A003 to refer to this note as “Note to 4A003” because pursuant to the October 4 rule, there is now only one note to the License Requirements section of ECCN 4A003.

Conforming Changes and Clarifications for October 4 Rule

The corrections described in this section are conforming changes to the CCL for the text adopted in the October 4 rule. These changes are not substantive, but improve consistency of the CCL and the EAR. They also include clarifications to address questions BIS has received since publishing the October 4 rule. In addition, the corrections described below for ECCNs 2B352, 5A980, 6A002 and 9A120 reinsert text into those ECCNs to ensure consistency with past rulemakings.

In § 738.4(b)(2) (Sample CCL entry), this final rule corrects the sample entry to conform to the new CCL entry section headings and table headings included in the October 4 rule, such as correcting the “License Exceptions” section heading in the sample CCL entry to correctly read as “List Based License Exceptions (See Part 740 for a description of all license exceptions).”

In § 774.1(b)(3) (Multilateral export control regime references . . .), this final rule revises paragraph (b)(3) to add text that was intended to be included in that paragraph, but inadvertently was not included in the October 4 rule. In addition, to conform to the correction made to ECCN 0D001, this final rule also corrects in § 774.1 the Note to paragraph (b) to provide a reference to the Heading Note that is being added to ECCN 0D001 in this final rule.

ECCNs 0D001, 0E001 and 2B999 and Technical Note to CCL Category 1, Product Group C. This final rule corrects these three ECCNs and this Technical Note by removing references to fourteen ECCNs in which items subject to the exclusive jurisdiction of the Nuclear Regulatory Commission (NRC) previously were classified. These ECCNs were removed from the CCL in the October 4 rule. (With these corrections, the January 2 rule's revisions to the headings of ECCNs 0D001 and 0E001, which consisted of updating these two headings to specifically exclude the “600 series” ECCNs added to the CCL in that rule, are no longer needed.) In addition to removing these references, this final rule adds regulatory text to ECCNs 0D001 and 2B999 to specify that the NRC has jurisdiction for certain nuclear related items. As a conforming change to the removal of the references to the fourteen ECCNs in ECCN 0D001, this final rule adds text to ECCN 0E001 to specify that the Department of Energy has export licensing authority for “technology” for the items subject to export licensing authority of the NRC. Elsewhere, the EAR also makes this type of jurisdictional reminder, such as in Supplement No. 3 to part 730—Other U.S. Government Departments and Agencies with Export Control Responsibilities. As described above, a conforming change correction was also made in § 774.1 for the Note to paragraph (b) that references ECCNs 0D001 and 0E001.

ECCN 1A984. This final rule amends the last phrase in the heading of ECCN 1A984, “other pyrotechnic articles having dual military and commercial use” to read “other pyrotechnic articles (excluding shotgun shells) having dual military and commercial use, and “parts” and “components” “specially designed” therefor, n.e.s.” Through this amendment, BIS seeks to clarify that it intended for “parts” and “components” “specially designed” for “other pyrotechnic articles (excluding shotgun shells) having dual military and commercial use” that are not elsewhere specified on the CCL to be classified under ECCN 1A984. This heading should have been amended in the October 4 rule when similar conforming changes and clarifications were made to the EAR. These changes do not expand the scope of ECCN 1A984, but serve to clarify the ECCN.

The term “articles” is not defined in the EAR. However, “articles,” as used in the EAR, could be interpreted to include “parts” and “components.” The October 4 rule made a number of changes to the CCL to conform to the new definitions of “parts” and “components” that were added to the EAR in the April 16 rule. Before making the October 4 rule conforming changes, BIS determined where the terms “parts” and “components” should be added to the CCL to preserve the intended scope of each ECCN while conforming to the new April 16 rule definitions. In doing so, BIS focused primarily on ECCNs in which either “part” or “component” was already used. Because ECCN 1A984 does not use one of those terms, the October 4 rule inadvertently did not amend this ECCN at the same time as other similar ECCNs. BIS indicated in the October 4 rule that, over time, BIS may further refine the use of the terms “parts” and “components” on the CCL (see 78 FR 61878). When BIS reviewed ECCN 1A984, it determined that the longstanding intent of this ECCN has been to control “parts” and “components” for some of the commodities classified under it. Therefore, “parts” and “components” should have been added to the heading of ECCN 1A984 in the October 4 rule. As stated in the October 4 rule, BIS is not attempting to add additional references to “parts” and “components” in this final rule that would change the scope of what ECCN 1A984 controls. The intent identified in this final rule is consistent with past BIS interpretation of and licensing under ECCN 1A984.

In addition, this final rule adds the phrase “(excluding shotgun shells)” after the term “articles” to clarify the delineation between ECCN 1A984 and existing ECCN 0A986.

Among other things, this edit will make clear that “items” such as “specially designed” rubber finned projectiles for 38/40 mm rounds are included in ECCN 1A984, and that tiny rubber balls incorporated by manufacturers into “items,” but used for multiple other purposes that would meet one of the paragraph (b) “releases” in the definition of “specially designed” set forth in § 772.1 of the EAR, are not within the scope of ECCN 1A984.

ECCNs 2B352 and 9A120. This final rule corrects ECCN 2B352 by revising paragraph (h) to reinsert text that was inadvertently removed in the October 4 rule when paragraph (h) was revised. This final rule also corrects the introductory text of “Items” paragraph (i) in ECCN 2B352, which was the original intent of the October 4 rule. Paragraph (i) was not revised correctly because the October 4 rule did not take into account a June 5, 2013, final rule (78 FR 33698), which redesignated paragraphs (g) and (h) as paragraphs (h) and (i), respectively. This final rule also corrects for the same reason the “Technical Notes” paragraph 2 at the end of the “Items” paragraph that references ECCN 2B352.h, which should be 2B352.i. ECCN 9A120 is also being corrected with this final rule to remove the reference to ECCN 2B352.h and add in its place 2B352.i.

ECCN 5A980. This final rule corrects the heading in ECCN 5A980 to remove the reference to ECCN 5A001.i, and adds in its place 5A001.f.1. Based on a June 20, 2013, final rule (78 FR 37389), paragraph .i of ECCN 5A001 is reserved, and the correct reference is therefore 5A001.f.1.

ECCNs 1E001, 5B001, and 6A002. This final rule corrects the STA paragraphs in the “Special Conditions for STA” sections of ECCNs 1E001, 5B001 and 6A002 to remove the reference to destinations in § 740.20(c)(2) and replace that with the intended reference to destinations in Country Group A:6 (See Supplement No. 1 to part 740 of the EAR). In the October 4 rule, this same change was made to other ECCNs that included STA paragraphs, but inadvertently was not implemented for these three ECCNs. In addition, this final rule corrects the STA paragraph in the “Special Conditions for STA” section of ECCN 6A002 to restore text that was inadvertently deleted in the October 4 rule to accurately reflect which ECCN 6A002 commodities are excluded from License Exception STA. The October 4 rule change to ECCN 6A002's STA paragraph was intended to be limited to updating the reference from (c)(2) to Country Group A:6, as well as moving the STA paragraph under the new “Special Conditions for STA” section heading. However, the October 4 rule inadvertently removed some of the exclusion text under ECCN 6A002. This final rule adds those additional “Items” paragraph references back into the STA paragraph in 6A002, so it now correctly states that License Exception STA may not be used to ship to any of the destinations listed in Country Group A:6 (See Supplement No. 1 to part 740 of the EAR) any commodity classified under ECCN 6A002 paragraphs: 6A002.a.1.a, a.1.b or a.1.c; 6A002.a.3.c, a.3.d, a.3.e, or a.3.f; or 6A002.b.

ECCNs 6B995 and 9B991. This final rule revises the headings of ECCNs 6B995 and 9B991 to make the intent of the headings clearer and to use a structure that is more consistent with the rest of the CCL. The October 4 rule revised both of these headings, but questions received from the public since publication suggested that the changes made for clarity did not achieve the intended objective. The scope and substance of the two ECCNs are not changed, as this correction is limited to revising the two headings to clarify what is classified under those two ECCNs.

ECCN 8A992. The October 4 rule removed ECCN 8A918 and moved these commodities to ECCN 8A992.l and .m, respectively, because they are not inherently military items and warrant only an AT control. To conform to the removal of ECCN 8A918, this final rule corrects ECCN 8A992 to remove an inadvertently retained UN control paragraph in the License Requirement section.

ECCN 9A619. This final rule removes the term “aircraft” before the term “commodities” in ECCN 9A619.y introductory text because ECCN 9A619 also controls commodities for gas turbine engines, such as those for aircraft, ship, and land vehicles. Inadvertent use of the term “aircraft” was inconsistent with the rest of ECCN 9A619. This is not a substantive change to the scope of the ECCN 9A619, but rather this is a change made for consistency with the scope of ECCN 9A619 and the original intent of the commodities to be classified under this ECCN.

ECCNs 9B115, 9B116, and 9E101. The October 4 rule revised the headings of ECCNs 9B115 and 9B116 to indicate that the ECCNs identified in these headings include ECCNs 9A103 to 9A109, among others. However, the “Related Controls” paragraphs in ECCNs 9B115 and 9B116, instead of referencing ECCNs 9A103 to 9A109 incorrectly includes ECCNs 9A104 to 9A109. Similarly, the October 4 rule revised the heading of ECCN 9E101 reference ECCNs 9A103 to 9A111, among others, but the “Related Controls” paragraph of ECCN 9E101 references 9A104 to 9A111. This final rule removes 9A104 and adds 9A103 in its place in the “Related Controls” paragraphs of ECCNs 9B115, 9B116 and 9E101.

ECCNs 9B610 and 9B619. The October 4 rule revised the “Related Controls” paragraphs of ECCNs 9B610 and 9B619 to add in the “Related Controls” section “equipment” controlled under USML Category VIII(h)(1) and USML Category XIX(f)(1), respectively. This text is identical to the control text in USML Category VIII(h)(1) and USML Category XIX(f)(1). The ITAR-controlled “equipment” referred to in the “Related Controls” paragraphs does not include the items described in ECCNs 9B610 or 9B619. This final rule amends these two “Related Controls” paragraphs to make this point more clear.

Lastly, under ECCN 9B610, this final rule adds quotation marks around the defined terms, “parts,” “components,” “accessories,” “attachments,” and “specially designed” in the “Related Controls” paragraph in the List of Items Controlled section of 9B610 to make the ECCN consistent with the quotation marks practice described in the April 16 rule and with other references to these defined terms on the CCL. In addition, this final rule adds a second sentence to the “Related Controls” paragraph to also reference USML Category VIII(h)(2)-(26), in addition to USML Category VIII(h)(1).

(E) July 8 Rule Corrections and Clarifications

BIS provides the following corrections and clarifications to the July 8 rule, which became effective on January 6, 2014. These include correcting typographical errors, inserting omitted quotation marks, and adding text for consistency with other final rules and the structure of the CCL.

Typographical Errors and Other Corrections for July 8 Rule

ECCNs 0A606, 0A617, 0E018, and 8A609. This final rule corrects typographical errors in these ECCNs, such as deleting an extra semicolon in “Items” paragraph y.8 in the List of Items Controlled section of ECCN 8A609 and adding a period that was mistakenly not included in ECCN 0E018.

ECCNs 0A606, 0A617, 8A018, and 8A620. This final rule adds quotation marks to certain uses of defined terms, such as “specially designed,” “components,” and “parts” in these ECCNs for consistency with the use of quotation marks practice identified in the July 8 rule.

ECCN 0A617. This final rule adds the “Related Definitions” paragraph after the “Related Controls” paragraph in ECCN 0A617. The “Related Definitions” paragraph does not define any terms in this ECCN because it is designated as “N/A.” However, for the sake of consistency with the other ECCNs on the CCL that include a “List of Items Controlled” section, the “Related Definitions” paragraph should have also been included in ECCN 0A617.

ECCNs 0A918 and 8C609. This final rule adds the phrase “(see List of Items Controlled)” to the end of the headings for ECCNs 0A918 and 8C609. Both ECCNs include a description of the “Items” controlled in the List of Items Controlled section. For the sake of consistency with the structure used for other ECCNs on the CCL, the phrase “(see List of Items Controlled)” should have been included in these ECCNs.

(F) April 16 Rule Corrections and Clarifications

BIS provides the following corrections and clarifications to the April 16 rule, which became effective on October 15, 2013. These include correcting typographical errors, inserting omitted quotation marks and redesignating certain paragraphs to make those paragraphs easier to identify. In addition, this final rule makes corrections and clarifications to the CCL and other parts of the EAR to conform to the amendments made in the April 16 rule, as well as for consistency with other final rules.

Typographical Errors and Other Corrections for April 16 Rule

In Supplement No. 1 to Part 748, Block 24; § 772.1, “specially designed” definition, Note 1 to paragraph (a)(1); and Supplement No. 4 to Part 774—Commerce Control List Order of Review, paragraph (a)(5), this final rule corrects typographical errors in these EAR references. These changes include adding a space between two words in Supplement No. 1 to Part 748, Block 24, removing an errant closed parenthesis at the end of the same sentence and removing an extra “a” in Note 1 to paragraph (a)(1) of “specially designed” because it is not needed.

In Supplement No. 1 to part 736, under General Order No. 5, this final rule corrects the paragraph designations used in the General Order No. 5 paragraphs for consistency with the Federal Register Drafting Handbook for paragraph designations and to make these paragraphs easier to identify. The title General Order No. 5 will be preceded by paragraph designation (e), in keeping with the other General Orders, and all of the other paragraphs in General Order No. 5 are redesignated one paragraph level lower. For example, this final rule redesignates paragraph (a) as paragraph (e)(1).

In §§ 744.17(d) and 744.21, this final rule makes conforming changes consistent with the intent of the April 16 rule. The April 16 rule revised §§ 744.17(d) and 744.21 to use single quotation marks around the term `military end use' and delete the hyphen in the term “end-use.” However, § 744.17(d) currently retains the hyphen and, because the amendatory instruction for § 744.21 did not include revising the section heading, the single quotation marks and deletion of the hyphen were not incorporated into the EAR for § 744.21. This final rule corrects the paragraph heading of § 744.17(d) and the section heading of § 744.21 to add single quotation marks around `military end use' in the latter and delete the hyphen in “end use” for both, as intended in the April 16 rule.

Conforming Changes and Clarifications for April 16 Rule and Revisions to License Exception GOV

The corrections described in this section are conforming changes and clarifications to the CCL for the amendments included in the April 16 rule. These changes are not substantive, but rather address needed conforming changes for consistency of the CCL and the rest of the EAR, as well as clarifications to address questions BIS has received since the publication of the April 16 rule.

In § 736.2(b)(3) (General Prohibition Three—Reexport and export from abroad of the foreign-produced direct product of U.S. technology and software (Foreign-Produced Direct Product Reexports)), this final rule clarifies the country scope of prohibition for ECCN 0A919 by adding a sentence to the end of paragraph (b)(3)(i) that is specific to 0A919 and adopts the same country scope of prohibition as the additional country scope of prohibition for “600 series” items in paragraph (b)(3)(iii). Although 0A919 commodities are not “600 series” items, they are military commodities and should have the same country scope prohibitions as “600 series” items under the direct product rule. Lastly, as a clarification for paragraph (b)(3)(i), this final rule adds the phrase “or export from abroad” after the term “reexport” for consistency with paragraph (b)(3)(iii).

In § 740.2(a)(13)(vi) (Restrictions on all license exceptions), this final rule revises and simplifies paragraph (a)(13)(vi), which is the paragraph for the general restrictions on the use of license exceptions for “600 series” items that refers to the eligibility of License Exception STA for “600 series” items. The final rule revises the introductory text under paragraph (a)(13)(vi) to specify that License Exception STA under § 740.20(c)(1) of the EAR is available to overcome the general restrictions on the use of license exceptions for “600 series” items, provided all of the applicable terms and conditions, including those specific to the “600 series” are met. This amendment does not change the requirements for or limitations on the use of License Exception STA for “600 series” items. Specifically, this final rule simplifies the reference to License Exception STA by deleting paragraphs (a)(13)(vi)(A), (B), (C) and (D) and revises the introductory text to conform to references to the other license exceptions that are eligible for “600 series” items as specified under paragraph (a)(13). BIS makes this change in this final rule to avoid restating the same requirements in different sections of the EAR. The change is also necessary to reduce the danger that someone may mistakenly believe that the License Exception STA paragraphs in (a)(13)(vi)(A), (B), (C) and (D) contain a complete list of the applicable terms and conditions of License Exception STA. In addition, this final rule revises the last sentence in the introductory text of paragraph (a)(13) for clarity, but does not change the meaning of paragraph (a)(13).

In § 740.10 (License Exception Servicing and replacement of parts and equipment (RPL)), this final rule removes the term “U.S. origin” modifying the terms “parts, components, accessories, or attachments,” “commodity or software” and “equipment.” This final rule also removes the term “U.S. origin” and replaces it with the phrase “subject to the EAR” with, at times, the citation “(see § 734.2(a) of the EAR).” This final rule also removes the term “U.S. origin” in paragraphs (a)(2)(ii), (a)(4)(i), (b)(1), and (b)(3) of License Exception RPL to better conform to the corresponding ITAR exemption under § 123.4(a)(1)(22 CFR 123), where the term “U.S. origin” is not used. The April 16 rule stated on page 78 FR 22669 that “a general principle underlying the incorporation of the `600 series' into the EAR is that, because items subject to the EAR are less militarily significant than those subject to the ITAR, EAR exceptions should not be more restrictive than comparable ITAR exemptions.” The use of the term “U.S. origin” in License Exception RPL is another example where an EAR license exception is more restrictive than the corresponding ITAR exemption and therefore, the term “U.S. origin” should have been removed from License Exception RPL consistent with the other changes made in the April 16 rule to other EAR license exceptions. BIS became aware of this needed correction based on questions received from the public after the April 16 rule became effective on October 15, 2013. In addition, because the scope of the EAR extends beyond U.S. origin items, such as to foreign origin items that are “subject to the EAR,” License Exception RPL under paragraphs (a) and (b) should also be available for those foreign origin items that are “subject to the EAR” in addition to U.S. origin items that are subject to the EAR. These corrections will preserve the intended scope of License Exception RPL and also better correspond to the ITAR exemption under § 123.4(a)(1) and may result in a slight reduction in the number of license applications received by BIS.

In § 740.11(c), this final rule revises License Exception GOV to allow items subject to the EAR to be exported, reexported, or transferred (in-country) to agencies of the North Atlantic Treaty Organization (NATO) in accordance with the terms and conditions of that license exception. Thus, NATO agencies will be treated like cooperating governments in that provision of GOV. Under new paragraph (c)(2)(ii), License Exception GOV will be available for the official use of a cooperating government's military end user, for a cooperating government's military end use, or for a NATO agency. Unlike paragraph (c)(2)(i), new paragraph (c)(2)(ii) has no territorial restriction on where the items may be used. These revisions will enable the United States to improve interoperability with NATO and other close allies. Lastly, as a conforming change to the capitalization of section headings in the EAR, this final rule revises the section heading for 740.11 to make all terms used in the section heading lower case, except for the first term used in the section and proper nouns used in the section heading.

In §§ 740.12(a), 740.13(d)(1), and 740.15(c)(1) and (c)(2), this final rule redesignates the footnotes in part 740 as a conforming change to the April 16 rule revisions to § 740.9 that included the removal of footnote 1 to paragraph (b)(1)(iv) in that section. The April 16 rule did not redesignate the other footnotes used in part 740, so there is no longer a footnote 1 to part 740. To redesignate the footnotes in part 740, so the footnotes begin with footnote 1, the final rule redesignates footnote 2 to § 740.12(a) as footnote 1; footnote 3 to § 740.13(d)(1) as footnote 2; and footnotes 4 and 5 to § 740.15(c)(1) and (c)(2) as footnotes 3 and 4, respectively.

In § 740.20 (License Exception Strategic Trade Authorization (STA)), this final rule makes six clarifications to License Exception STA. The first and second are the clarification being made to paragraph (b)(3)(ii)(B) and a corresponding change to paragraph (d)(2)(vii)(B), the third and fourth are the clarification being made to paragraph (b)(3)(ii)(C) and a corresponding change to paragraph (d)(2)(vi)(C), the fifth is a conforming change in Note to paragraph (c)(1) for text used in other parts of License Exception STA, and the sixth is a clarification in the form of one additional sentence that this final rule adds to further remind exporters, reexporters, and transferors of the requirement to obtain a prior consignee statement consistent with the requirement of paragraph (d)(2) (Prior Consignee Statement) and the addition of a new paragraph to the prior consignee statement. These corrections and conforming changes are described below.

In § 740.20, under paragraphs (b)(3)(ii)(B) and (d)(2)(vii)(B) (which was formerly designated as paragraph (d)(2)(vi)(B)), this final rule revises paragraphs (b)(3)(ii)(B) and (d)(2)(vii)(B) to clarify what is intended by the phrase “that will ultimately be used by” when a “600 series” item is exported, reexported or transferred (in-country) to a country in Country Group A:5 that will be subsequently sent to the United States for use by a person in the United States. The text could be read to mean that “600 series” items that are sent to the United States must ultimately be used by a U.S. person, which was not the intended interpretation. As described in greater detail below, in order to clarify the intended meaning, this final rule revises paragraphs (b)(3)(ii)(B) and (d)(2)(vii)(B) by creating two identical paragraphs under each. Those paragraphs' introductory requirements, specifying that the items must be for the “development,” “production,” operation, installation, maintenance, repair, overhaul, or refurbishing of an item in one of the countries listed in Country Group A:5 or the United States, are retained from the April 16 rule.

This final rule moves the remaining requirements of paragraph (b)(3)(ii)(B) to new paragraphs (b)(3)(ii)(B)(1) and (b)(3)(ii)(B)(2), and the remaining requirements of paragraph (d)(2)(vii)(B) to new paragraphs (d)(2)(vii)(B)(1) and (d)(2)(vii)(B)(2), respectively. The new paragraphs, (b)(3)(ii)(B)(1) and (d)(2)(vii)(B)(1), specify that the items must be ultimately used by government agencies in one of the countries listed in Country Group A:5 or the United States Government.

This final rule also adds new paragraphs (b)(3)(ii)(B)(2) and (d)(2)(vii)(B)(2) to specify that items sent to a person in the United States and not for subsequent export under § 740.9(b)(1) (License Exception TMP for items moving in transit through the United States) are also within the scope of paragraph (b)(3)(ii)(B) and (d)(2)(vii)(B). The new paragraphs (b)(3)(ii)(B)(2) and (d)(2)(vii)(B)(2) clarify the requirements for when items will be sent to a person in the United States that may or may not be ultimately used by a U.S. person. However, any subsequent export of a “600 series” item from the United States, including after incorporation into another item in the United States, must comply with U.S. export control laws. This final rule also clarifies in paragraphs (b)(3)(ii)(B)(2) and (d)(2)(vii)(B)(2) that “600 series” items sent to a person in the United States must not be for subsequent export under § 740.9(b)(1) (License Exception TMP for items moving in transit through the United States). This is not a substantive change and is limited to clarifying the original intent of License Exception STA for “600 series” items sent to a person in the United States.

In § 740.20 under paragraphs (b)(3)(ii)(C) and (d)(2)(vii)(C), this final rule revises paragraphs (b)(3)(ii)(C) and (d)(2)(vii)(C), which prior to this final rule was designated as paragraph (d)(2)(vi)(C), to remove the phrase “the consignee has,” adds the term “exists” after the words “such authorization,” and to remove the term “provides” and in its place add the phrase “has provided.” This change is made to paragraph (b)(3)(ii)(C) to conform to the intent of this requirement, which was to confirm that the United States Government has otherwise authorized the ultimate end use and the consignee confirms the authorization exists. This change is also intended to clarify that the license or other approval identifier must be sent before the export, reexport or transfer occurs.

This requirement was not intended to be limited to whether the consignee that receives a “600 series” item under License Exception STA has such authorization itself, but rather whether such an authorization exists for the ultimate end-use of the item. In certain fact patterns, the consignee may have such authorization, as reflected in the April 16 rule. However, for STA consignees that are manufacturers earlier in a supply chain, such as an aircraft “component” manufacturer, it is likely that the person that will have the authorization described in (b)(3)(ii)(C) is further along the chain, such as the aircraft manufacturer or other person selling the aircraft. If the consignee earlier in the process can confirm with the company later in the supply chain, such as the aircraft manufacturer or other person selling the aircraft, that the United States Government has otherwise authorized the ultimate end use, that confirmation will be sufficient to meet the criteria of paragraph (b)(3)(ii)(C) as clarified by this final rule. In the prior consignee statement paragraph in (d)(2)(vii)(C), this final rule makes the same clarification as a conforming change to the revised paragraph (b)(3)(ii)(C).

In § 740.20 under Note to paragraph (c)(1), this final rule corrects the Note to paragraph (c)(1) to make a conforming change by adding the phrase “or other approval” after the term “license.” The requirement specified in Note 1 to paragraph (c)(1) can be met under a previously approved license or other approval (i.e., DDTC Manufacturing License Agreement (MLA), Technical Assistance Agreement (TAA), Warehouse Distribution Agreement (WDA), or General Correspondence approval (GC)) issued by BIS or DDTC, U.S. Department of State. The phrase “or other approval” is used in other parts of License Exception STA, including in paragraph (c), and this text was also intended to be included in the Note to paragraph (c).

In § 740.20(d)(2) (Prior Consignee Statement), this final rule adds one sentence to the introductory text of paragraph (d)(2) as an additional reminder that each party using License Exception STA to export, reexport or transfer (in-country), including reexporters and transferors of items previously received under License Exception STA, must obtain a prior consignee statement from its consignee and retain the statement required by paragraph (d)(2). Paragraph (d)(2) already includes this requirement, but based on questions BIS received regarding whether a reexporter or transferor of items previously received under License Exception STA must obtain and retain the statement required by paragraph (d)(2), BIS determined that adding another sentence to the introductory text of this paragraph would be helpful. For example, a company exports an item eligible for License Exception STA to a consignee located in Germany. The U.S. exporter obtained the prior consignee statement from the consignee in Germany prior to making the export authorized under License Exception STA, as well as meeting the other applicable terms and conditions of License Exception STA. The company in Germany decides to reexport the item received under License Exception STA to a consignee in France. The German company in this scenario must obtain the prior consignee statement from the consignee in France prior to using License Exception STA, just as the U.S. exporter obtained the prior consignee statement before exporting to Germany.

In addition, this final rule redesignates paragraphs (d)(2)(iv), (v), (vi) and (vii), as paragraphs (d)(2)(v), (vi), (vii) and (viii) respectively. This final rule redesignates these paragraphs, so a new paragraph (d)(2)(iv) can be added for the prior consignee statement. This final rule adds a new paragraph (d)(2)(iv) to specify that the prior consignee statement must also include a statement that the consignee agrees to obtain a prior consignee statement when using License Exception STA for any reexport or transfer (in-country) of items previously received under License Exception STA. The obligation to get a retransfer certification as part of the prior consignee statement under License Exception STA is no more of a burden than the need to get a retransfer authorization under 22 CFR 123.9 (Country of ultimate destination and approval of reexports or retransfers) of the ITAR. As a conforming change this final rule revises the last two sentences of the introductory text of paragraph (d)(2) to clarify that paragraphs (d)(2)(i) through (vi) of this section are required for all transactions under License Exception STA. (This includes the new paragraph (d)(2)(iv) that is added with this final rule, as well as the former paragraphs (d)(2)(iv) and (d)(2)(v) that this rule redesignates as paragraph (d)(2)(v) and (vi)). The conforming changes also update the reference to the “600 series” by specifying that paragraph (d)(2)(vii) is required for all transactions in “600 series” items and paragraph (viii) of this section is required for transactions in “600 series” items if the consignee is not the government of a country listed in Country Group A:5 (See Supplement No. 1 to part 740 of the EAR).

Lastly, this final rule adds to the end of paragraph (d)(2) a new requirement that the prior consignee statement must include the name and title of the person signing the document, and the date the document is signed. This is a change to the prior consignee statement, although based on BIS reviews of prior consignee statements, in many cases consignees have already been including such information as part of their prior consignee statements. Including such information is a good compliance practice and will help to better identify who provided the consignee statement and when the statement was provided, so this final rule adds these as additional elements to be included in the prior consignee statement along with the clarification to the prior consignee statement described above.

BIS recognizes that this rule's clarification to the prior consignee statement could have resulted in requiring exporters, reexporters and transferors to obtain new consignee statements. To avoid making those with existing consignee statements have to obtain replacement consignee statements simply to accommodate this rule's clarifications, the clarifications to the prior consignee statement will only apply to statements issued or amended after this rule becomes effective.

License Exceptions TMP and GOV cross-references are updated in this final rule to conform to changes implemented in the April 16 rule. Specifically, this rule updates the references to TMP in: § 740.2(a)(5)(i) and (ii) from § 740.9(a)(2)(ii) to § 740.9(a)(4) (for kits consisting of replacement parts); §§ 746.2(a)(1)(i), 746.4(c), and 746.9(b)(i) from § 740.9(a)(2)(viii) to § 740.9(a)(9) (for the news media); and § 758.1(c)(6) from § 740.9(a)(2)(i) to § 740.9(a)(1) (for tools of trade).

In addition, prior to those revisions, the criteria for export or reexport to U.S. government personnel and agencies under License Exception GOV was in § 740.11(b)(2)(i) and (ii) of the EAR and the criteria for export or reexport to agencies of a cooperating government were in § 740.11(b)(2)(iii) and (iv) of the EAR. As revised, the criteria relating to agencies and personnel of the U.S. government are now in § 740.11(b)(2) and those relating to agencies of a cooperating government are in § 740.11(c)(2). The April 16 rule also made additional types of transactions relating to agencies and personnel of the U.S. government eligible for License Exception GOV in order to make License Exception GOV consistent with U.S. government related license exemptions available under the ITAR. However, the rule making those additions did not make conforming changes to §§ 746.4(c) and 746.9(b) of the EAR, which limit use of license exceptions for exports and reexports to North Korea and Syria, respectively. BIS did not intend to limit U.S. government related transactions to those destinations more narrowly than U.S. government related transactions to other destinations. Accordingly, this rule revises §§ 746.4(c) and 746.9(b) of the EAR to allow use of License Exception GOV for all of the types of transactions described in § 740.11(b)(2) of the EAR.

In § 750.7(c)(1)(ix) (Direct exports, reexports, or transfers (in-country) to and among approved end users and ultimate consignee on a license), this final rule makes a correction to this paragraph by adding the phrase “and ultimate consignee” after the phrase “to and among approved end users” to specify that direct exports, reexports, or transfers (in-country) to and among approved end users and the ultimate consignee on a license are a non-material change to the license, provided the other terms and conditions of paragraph (c)(1)(ix) are met. This was the intent of the April 16 rule, but after receiving a question that asked whether the “to and among” concept described in paragraph (c)(1)(ix) was intended to include the ultimate consignee listed on the license, BIS recognized that the regulatory text did not refer to the ultimate consignee and decided to correct this omission in this final rule.

In § 762.2(b)(9) (Records to be retained), this final rule corrects that paragraph by removing the outdated reference to “§ 740.13(f)” (Technology and software—unrestricted TSU) and adding in its place the current paragraph reference “§ 740.13(h).” Paragraph (f) was redesignated as paragraph (h) in the April 16 rule, but this conforming change was not made to § 762.2, so this final rule reflects the new paragraph designation in § 740.13.

ECCNs 9A610 and 9A619. This final rule makes a clarification for the “600 series” .y paragraphs in 9A610 and 9A619. BIS has received questions from the public regarding the classification of “parts,” “components,” “accessories,” and “attachments” “specially designed” for commodities specified in the respective “600 series” .y paragraphs. For example, galleys are classified under 9A610.y.9 and the public has asked whether “parts,” “components,” “accessories,” and “attachments” “specially designed” for galleys, such as a sink “specially designed” for use in a galley, are also classified under 9A610.y. These questioners believed BIS's intent was likely that such “parts,” “components,” “accessories,” and “attachments” were also intended to be classified under those respective .y paragraphs and not under “600 series” .x paragraphs. To clarify the classification of such commodities, BIS adds the phrase “and “parts,” “components,” “accessories,” and “attachments” “specially designed” therefor” to the end of the .y paragraphs in 9A610 and 9A619, making it clear that such commodities are also classified under the .y paragraphs in these respective “600 series” ECCNs.” BIS has recently made this same clarification to the .y paragraphs in ECCNs 0A606, 0A617, 0B617, 8A609, 8A620, 8B609 and 8B620 in a correction rule for the July 8 rule. Subsequent ECR implementation final rules will also generally include such text regarding the scope of the respective .y paragraphs.

This final rule also makes a change to ECCN 9A610 to clarify where “parts,” “components,” “accessories,” and “attachments” “specially designed” for commodities in ECCN 9A610.h are classified. The commodities classified in 9A610.h were moved from ECCN 9A018 in the April 16 rule. The former ECCN 9A018.e did not include a control on “specially designed” “parts,” “components,” “accessories,” and “attachments,” meaning such “specially designed” “parts, “components,” “accessories, and “attachments” prior to the April 16 rule, and dating back to the early 1990s, were designated as EAR99. For consistency with the Wassenaar Arrangement Munitions List (WAML) 10.g, the April 16 rule added “parts, “components,” “accessories,” and “attachments” for items under ECCN 9A610.h, which was done with the `catch-all' paragraph in ECCN 9A610.x based on “specially designed.” A person with “components” “specially designed” for commodities classified in ECCN 9A610.h raised the question whether it was BIS's intention to move the classification of such “components” from EAR99 to an ECCN with a worldwide license requirement, except for Canada, by classifying such “components” under 9A610.x.

BIS determined that, for consistency with WAML 10.g, such “parts,” “components,” “accessories,” and “attachments” should be classified under a “600 series” ECCN, but because they are militarily less significant, such “parts,” “components,” “accessories,” and “attachments” “specially designed” for commodities in ECCN 9A610.h should have been classified in the April 16 rule as “specially designed” “parts,” “components, “accessories,” and “attachments” under a paragraph in ECCN 9A610.y. This final rule makes this correction to ECCN 9A610 by adding a new “Items” paragraph y.30 in the List of Items Controlled section. This paragraph will clarify that “parts,” “components,” “accessories,” and “attachments” “specially designed” for commodities other than electronic items or navigation equipment in ECCN 9A610.h are classified under 9A610.y.30, which is consistent with BIS's original intention for where such militarily less significant items should be controlled under the “600 series.”

Finally, this final rule revises 9A610.h to add the term “parachute” between the phrase “complete canopies” to clarify the control is for complete parachute canopies and not complete cockpit canopies.

ECCN 9B619. This final rule corrects 9B619 by adding the phrase “(see List of Items Controlled)” to the end of the heading. ECCN 9B619 includes an “Items” paragraph in the List of Items Controlled, so the heading should include the phrase “(see List of Items Controlled).” This change is made for consistency with the CCL and past final rules that adopted this consistent structure for ECCN headings on the CCL.

(G) Other Corrections and Clarifications to the EAR

In addition to the corrections and clarifications described above, this final rule makes the following additional corrections and clarifications to the EAR, which resulted from amendments included in other final rules or other changes, such as removing a telephone number that is no longer needed in the EAR.

Other Typographical Errors and Corrections

ECCN 1C350. This final rule corrects 1C350.c.12 by removing the hyphen from Ethyldiethanolamine. The hyphen was unintentionally included when this paragraph was initially published in the Federal Register on December 29, 2004 (69 FR 77890).

In CCL Category 2, Product Group E, Materials Processing Table on Deposition Techniques, this final rule corrects the resultant coating for Molybdenum and Molybdenum alloy substrates in the Materials Processing Table on Deposition Techniques in the introductory portion of Category 2, Product Group E. The table listed the resultant coating as “Dielectric Players” and it is corrected to read “Dielectric layers.”

Other Conforming Changes and Clarifications to Past Amendments to EAR

In § 740.9, this final rule makes a correction to the heading of paragraph (a)(6) (Inspection and calibration) by adding the terms “test” and “repair” to the heading of this paragraph. Paragraph (a)(6) includes the terms “test” and “repair” in the text of the paragraph, but the heading may give the mistaken impression that the scope of this paragraph is limited to inspection and calibration, so the heading is revised to read “Inspection, test, calibration and repair,” which more accurately reflects the scope of this paragraph.

Also in § 740.9 (Temporary Imports, Exports, Reexports, and Transfers (in-country) (TMP)), this final rule makes a correction to paragraph (c)(8) by removing the phrase “paragraphs (a) through (e)” and adding in its place “paragraphs (a) through (d)” for the reference to Supplement No. 6 to part 742. Supplement No. 6 to part 742 does not include a paragraph (e).

In § 740.10 (License Exception Servicing and replacement of parts and equipment (RPL)), this final rule makes a clarification to License Exception RPL to replace the tern “returned” with the term “sent” in paragraph (b)(1) (Scope). This change is made to clarify that the scope of paragraph (b) does not require that the item in question be originally exported from the United States and subsequently returned to the United States for servicing. This change is made because the intent of paragraph (b)(1) is to also allow for items produced outside the United States to be sent to the United States for servicing under paragraph (b). In addition, this final rule makes a conforming change to paragraph (b)(1) by adding in the phrase “or to a foreign party for servicing,” so the scope paragraph (b)(1) accurately reflects the scope of the authorization in paragraph (b)(2).

In § 742.6(b) (Licensing policy), this rule revises the first sentence of § 742.6(b)(1) to explicitly state the foreign policy considerations employed in review of license applications for “600 series” items include the United States' foreign policy interest of promoting the observance of human rights throughout the world. This is a longstanding foreign policy interest of the United States that is noted in both statute and regulation (see, e.g. 22 U.S.C. 2304(a) and 15 CFR 742.7(a)). This revision merely provides explicit notice that the review of license applications for “600 series” items to determine whether the transaction is contrary to the foreign policy interests of the Unites States includes consideration of human rights. This is not a substantive change from the policy set forth in § 742.6(b)(1).

In § 746.3 (Iraq), this final rule also removes the outdated reference to the “Interim Government of Iraq” and adds in its place the correct reference the “Government of Iraq.” The final rule also in that same section removes the outdated reference to the phrase “or the Multinational Force in Iraq.”

In § 746.3(c) (License Exceptions), in addition to the changes described above for this section to remove the two outdated references, this final rule removes an errant open quotation mark, adds a sentence to the end of paragraph (c) to clarify the relationship between the license requirements in paragraph (a)(4) of this section and the use of license exceptions. This new sentence clarifies that license exceptions may not be applied to paragraph (a)(4) license requirements. This clarification is not a change in policy, but rather clarifies the existing relationship between paragraphs (a)(4) and (c).

In § 748.2(a)(3), this final rule removes the first telephone number listed (408) 998-8805 for BIS's Western Regional Office in paragraph (a)(3) because it will no longer be used as a general outreach number. The second telephone number listed in that paragraph for the Western Regional Office is intended to be used by the public as a general outreach number and will remain in paragraph (a)(3).

In § 748.4(h) (Emergency processing), this final rule revises the cross reference regarding validity periods on emergency licenses from § 750.7(h) to § 750.7(g). Section 750.7(g) is the section of the EAR that addresses validity periods, including for emergency licenses. This revision simply corrects an error and improves the utility of the EAR to exporters.

In Supplement No. 7 to Part 748 (Authorization Validated End-User (VEU): List of Validated End-Users, Respective Items Eligible for Export, Reexport and Transfer, and Eligible Destinations), this rule corrects an oversight by adding an omitted Federal Register citation to one of the VEU entries. Specifically, in this rule, BIS amends the VEU List by revising the “Federal Register Citation” Column for VEU Lam Research Service Co., Ltd. (Lam) in “China, (Peoples Republic of)” to include the citation for the most recent amendment to Lam's VEU authorization. That citation is 78 FR 54752, 9/6/13.

In § 750.7(c) (Changes to the license), this final rule adds a non-material change under new paragraph (c)(2) (Notification of name change by advisory opinion request) to specify that in certain cases a name change can be made for a party listed on a BIS license (i.e., name of exporter, reexporter, purchaser, intermediate consignee, ultimate consignee, or end user), provided no changes in ownership, merger or acquisition activity, or other change in legal status has occurred since the time the license was approved for the person listed on the license. In order to rely on this new paragraph, BIS must have approved the name change in response to a request for an advisory opinion submitted by the licensee that BIS treat the name change as an eligible name change under this paragraph. Prior to publication of this final rule, because name changes were not identified in paragraph (c), any name change for a party listed on a BIS license was a material change to the license. However, in certain cases, exporters, reexporters or transferors submitted advisory opinion requests to BIS that requested BIS confirmation that certain name changes did not warrant a new license, because the party listed on the license was the same in all respects, except for the change in the name, which was typically being changed for marketing or branding reasons. BIS has approved such name changes in the past through advisory opinion responses when the person listed on the license was the same, except for the name change. Making BIS's past practice more explicit in the EAR will also make the EAR more consistent with the ITAR since DDTC uses a similar process for reviewing and approving similar types of name changes under 22 CFR 126.3 (Exceptions) and 22 CFR 122.4 (Notification of changes in information furnished by registrants). BIS adds this new paragraph (c)(2) to ensure all interested parties are aware that such an advisory opinion may be submitted to BIS.

This final rule adds a new paragraph (c)(2)(i) to specify the information that must be included in advisory opinion requests for name changes. This final rule adds a new paragraph (c)(2)(ii) to specify how BIS will respond to such an advisory opinion request. This rule adds a new paragraph (c)(2)(iii), to specify the additional actions required by a licensee, when relying on paragraph (c)(2), including a cross reference to see § 758.4(d) (Exports against licenses with approved name changes) for export clearance requirements for such licenses. These requirements under paragraphs (c)(2)(i)-(iii) put into the EAR the established practices and review criteria BIS already uses when reviewing such advisory opinion requests and making such determinations. Lastly, paragraph (c)(2)(iv) reminds the licensee that if the name change request is not approved by BIS or the licensee believes that the name change that is a material change to the license, then the parties to the transaction should apply for a new license. § 758.1 (The Electronic Export Information (EEI) filing to the Automated Export System (AES)), § 758.4 (Use of export license) and § 762.2 (Records to be retained) are updated as necessary to add references to § 750.7(c)(2), describing circumstances where the licensee can change the name of persons listed on a license. Under § 758.1 this final rule revises paragraph (f)(2) that deals with conformity of statements on AES records with the contents of BIS licenses, to add a reference to name changes approved by BIS in writing in accordance with § 750.7(c)(2) of the EAR, as a possible exception for when the information entered into the AES record may not conform to what is listed on the license. This final rule also replaces in paragraph (f)(2) the phrase “exporter blocks” with the AES phrase “USPPI and USPPI identification blocks” to conform with how those blocks are referred to in AES. Under § 758.4 this final rule adds a new paragraph (d) (Exports against license with approved name changes) to specify that when exporting against a license with an approved name change under § 750.7(c)(2), prior to using that export license you are required to include in the respective name field in AES (e.g., in the USPPI name field in AES), the new name followed by the original name in this format “[new name] f.k.a. [original name].” This additional reporting requirement (by putting additional text into an existing box on an already approved form) would be completed by the authorized filer of the electronic export information (EEI) in AES. The use of the acronym f.k.a. will alert those reviewing the AES data that this person was formerly known as the original name. Under § 762.2 (Records to be retained), this final rule adds a new paragraph (b)(53) to specify that notification of name change by advisory opinion requests made under § 750.7(c)(2) are records that must be retained.

In § 772.1 (Definitions of terms as used in the Export Administration Regulations), under the definition of “technology,” this final rule adds a sentence to the end of the definition. This final rule also adds a note 2 to the definition of “technology” and redesignates the current note as note 1. The new sentence clarifies that “technology” also includes specific information necessary for operation, installation, maintenance, repair, overhaul, refurbishing, as well as for other terms specified in ECCNs that control “technology.” The new note 2 also does not change the definition of “technology.” The note provides additional guidance on the application of the definition based on current BIS practice and past interpretive guidance BIS has provided, along with the new sentence this final rule adds to the definition. This new note 2 clarifies that “technology” not elsewhere specified on the CCL is designated as EAR99, unless the “technology” is subject to the exclusive jurisdiction of another U.S. Government agency or is otherwise not subject to the EAR as set forth in § 734.4(b)(2) and (b)(3) and §§ 734.7 through 734.11 of the EAR.

In § 772.1, under the definition of “use,” this final rule adds a note to the definition of “use.” The note does not change the definition of “use.” The note is limited to providing guidance on the application of the definition based on current BIS practice and past interpretive guidance BIS has provided. The new note clarifies that if an ECCN specifies one or more of the six elements of “use” in the heading or control text, only those elements specified are captured under that ECCN.

In CCL Category 1 and CCL Category 5—Part 2, this final rule reinserts the Product Group D heading in CCL Category 1 and reinserts the Product Groups A, B and E headings in CCL Category 5—Part 2. A final rule did not intentionally remove these Product Group headings from CCL Categories 1 and 5—Part 2. It appears that either a final rule inadvertently removed those Product Group headings or that in making an incorporation into the Code of Federal Regulations (CFR) for the EAR, those Product Group headings may have inadvertently been removed. This final rule corrects Categories 1 and 5—Part 2 by reinserting those Product Group headings. BIS became aware of this issue when confirming that the incorporations for the Product Group headings were fully implemented for the April 16 rule.

EAR Conforming Changes Required by Amendment to ITAR

This final rule makes two conforming changes to the EAR in § 746.1(b)(2) and Supplement No. 1 to part 740 as a result of a final rule published by the Department of State on April 17, 2014 (79 FR 21616), titled Amendment to the International Traffic in Arms Regulations: Central African Republic. The State Department's rule revised ITAR § 126.1 to include the Central African Republic in new paragraph (u), establishing that it is the policy of the United States to deny licenses or other approval for exports or imports of defense articles and defense services destined for or originating in the Central African Republic and specifying under what circumstances a license or other approval may be issued on a case-by-case basis. The April 17 rule noted that ITAR § 126.1(u) was being added to implement the United Nations arms embargo, adopted in United Nations Security Council (UNSC) Resolution 2127 (December 5, 2013) and UNSC Resolution 2134 (January 28, 2014).

This final rule revises § 746.1(b)(2) (Sanctions on selected categories of items to specific destinations), which identifies destinations subject to United Nations Security Council arms embargoes, by adding the Central African Republic. This final rule also revises Country Group D:5 (in Supplement No. 1 to part 740), which identifies countries subject to U.S. arms embargoes to add the country of Central African Republic. As is noted in footnote 1 to Country Group D:5, Country Group D:5 is intended to track with the ITAR's § 126.1 and as additions or removals are made to this section of the ITAR, conforming changes are made to Country Group D:5. Because the Central African Republic is also subject to a United Nations Security Council arms embargo, conforming changes are needed in both Country Group D:5 and § 746.1.

Export Administration Act

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 8, 2013, 78, 2013, 78 FR 49107 (August 12, 2013), has continued the Export Administration Regulations in effect under the International Emergency Economic Powers Act. BIS continues to carry out the provisions of the Export Administration Act, as appropriate and to the extent permitted by law, pursuant to Executive Order 13222 as amended by Executive Order 13637.

Rulemaking Requirements

1. Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This final rule, which is a consolidation of corrections and clarifications of final rules published in 2013 and 2014, has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission; license exceptions (0694-0137); recordkeeping (0694-0096); export clearance (0694-0122); and the Automated Export System (0607-0152). Total burden hours associated with the PRA and OMB control number 0694-0088 are expected to slightly decrease as a result of this rule when taking into account the full scope of corrections and clarifications included in this final rule. The two changes in this final rule that may result in a slight increase are (1) the clarification to ECCN 1A984, and (2) the changes made to the EAR to add the Central African Republic to § 746.1(b)(2) and in Supplement No. 1 to part 740 under Country Group D:5 to conform to the addition of this country to § 126.1 of the ITAR. Specifically, the clarification that the last phrase of ECCN 1A984 also includes “parts” and “components” “specially designed” therefor and not elsewhere specified may result in a slight increase in the number of applications received by BIS, although BIS believes the public likely was already treating such “specially designed” “parts” and “components” as pyrotechnic articles under ECCN 1A984, so the overall impact of this clarification is expected to be minimal. The addition of the Central African Republic to § 746.1(b)(2) and to Country Group D:5 in Supplement No. 1 to part 740 is not expected to result in much of an increase in the number of license applications received because the license requirements in § 746.1(b) are in almost all cases redundant with the other EAR license requirements that apply to the countries identified in paragraph (b)(2), such as Crime Control. The addition of the Central African Republic to Country Group D:5 for the “600 series” will impose significant restrictions, but the overall impact on licenses received is anticipated to be minimal. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined under E.O. 13132.

4. The Department of Commerce finds that there is good cause under 5 U.S.C. 553(b)(3)(B) to waive the provisions of the Administrative Procedure Act otherwise requiring prior notice and the opportunity for public comment because they are unnecessary. The majority of the revisions made by this rule are administrative in nature and do not affect the privileges and obligations of the public. These revisions in this rule are important to get in place as soon as possible to avoid confusion by the public regarding the intent and meaning of recent changes to the EAR without harming anyone's substantive rights. The Department also finds that there is good cause under 5 U.S.C. 553(b)(3)(A) to waive the provisions of the Administrative Procedure Act requiring notice and comment because these changes are limited to providing guidance on existing interpretations of current EAR provisions. These changes, which are described above, include the revisions to §§ 736.2, 740.2(a)(13), 742.6(b)(1), 746.3(c), 750.7, 750.7(c)(1)(ix), 758.1(f)(2), 758.4(d), 772.1 for the definitions of “specially designed,” “technology” and “use” and ECCN 1A984. These revisions in this rule are important to get in place as soon as possible so the public will be aware of these existing interpretations of current EAR provisions. Because these revisions are not substantive changes to the EAR, the 30-day delay in effectiveness otherwise required by 5 U.S.C. 553(d) is not applicable. No other law requires that a notice of proposed rulemaking and opportunity for public comment be given for this rule. The analytical requirements of the Regulatory Flexibility Act (5 U.S.C. 601 et seq.) are not applicable.

5. Because a notice of proposed rulemaking and an opportunity for public comment are not required to be given for these amendments by 5 U.S.C. 553, or by any other law, the analytical requirements of the Regulatory Flexibility Act, 5 U.S.C. 601 et seq., are not applicable.

6. With respect to amendments to § 740.11, the Department also finds that the provisions of the Administrative Procedure Act (5 U.S.C. 553) requiring prior notice, the opportunity for public comment and a delay in effective date are inapplicable because this amendment involves a military or foreign affairs function of the United States (see 5 U.S.C. 553(a)(1)). BIS, with the concurrence of the U.S. Departments of Defense and State, is amending § 740.11 to allow items subject to the EAR to be exported, reexported or transferred (in-country) to, and in support of, specific cooperating governments or agencies of NATO for their official use. Under the existing regulations, cooperating governments could already receive exports of these items. The changes being made to § 740.11 add NATO and its agencies to the list of recipients and, in furtherance of the objectives of NATO, the United States, and its allies, the rule clarifies that reexports and transfers (in-country) are authorized by this license exception when for their official use wherever the items are needed.

Immediate allowance of a license exception is necessary to effect this amendment's national security and foreign policy goals of allowing NATO and cooperating governments to receive items subject to the EAR for military purposes, to users and for uses that support the national security of the United States and its allies. In the alternative, BIS finds good cause under 5 U.S.C. 553(b)(3)(B) to forgo prior notice and the opportunity for public comment. In addition to the reasons described above, if BIS delayed this rule to allow for prior notice and opportunity for public comment, the resulting delay in applying for and receiving licenses could pose a national security threat, thereby undermining the purpose of the rule.

In addition, BIS finds good cause to waive the 30-day delay in effectiveness under 5 U.S.C. 553(d)(3). Immediate implementation will allow NATO and cooperating governments to receive and use these items to assist the national security of the United States and its allies. If BIS delayed this rule to allow for a 30-day delay in effectiveness, the resulting delay in implementation would create a delay and possible negative impacts on the United States' support of NATO and its allies similar to delays this rule is seeking to avoid by allowing a license exception for these transactions.

Because a notice of proposed rulemaking and an opportunity for public comment are not required to be given for these changes by 5 U.S.C. 553, or by any other law, the analytical requirements of the Regulatory Flexibility Act, 5 U.S.C. 601 et seq., are not applicable.

7. The Department finds that there is good cause under 5 U.S.C. 553(b)(3)(B) to waive the provisions of the Administrative Procedure Act requiring prior notice and the opportunity for public comment because they are either unnecessary or contrary to the public interest. This rationale applies to the changes in §§ 740.10, 740.20 and in Supplement No. 1 to part 774 under ECCNs 9A610.y and 9A619.y. The rationale also applies to the reinsertion of text removed in ECCNs 2B352, 5A980, 6A002 and 9A120 to correct oversights in the October 4 rule that mistakenly did not take into account edits to the underlying ECCN text or redesignation of paragraphs in those four ECCNs in earlier final rules. These revisions are non-substantive, only clarifying the regulations and thus prior notice and the opportunity for public comment is unnecessary. Because a notice of proposed rulemaking and an opportunity for public comment are not required to be given for these amendments by 5 U.S.C. 553, or by any other law, the analytical requirements of the Regulatory Flexibility Act, 5 U.S.C. 601 et seq., are not applicable.

List of Subjects

15 CFR Parts 736, 738 and 772

Exports.

15 CFR Parts 740, 748, 750 and 758

Administrative practice and procedure, Exports, Reporting and recordkeeping requirements.

15 CFR Part 742

Exports, Terrorism.

15 CFR Part 744

Exports, Reporting and recordkeeping requirements, Terrorism.

15 CFR Part 762

Administrative practice and procedure, Business and industry, Confidential business information, Exports, Reporting and recordkeeping requirements.

15 CFR Parts 746 and 774

Exports, Reporting and recordkeeping requirements.

Accordingly, parts 736, 738, 740, 742, 744, 746, 748, 750, 758, 762, 772 and 774 of the Export Administration Regulations (15 CFR parts 730-774) are amended as follows:

PART 736—[AMENDED]

1. The authority citation for 15 CFR part 736 is revised to read as follows:

Authority: 50 U.S.C. app. 2401 et seq.; 50 U.S.C. 1701 et seq.; 22 U.S.C. 2151 note; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13338, 69 FR 26751, 3 CFR, 2004 Comp., p. 168; Notice of August 8, 2013, 78 FR 49107 (August 12, 2013); Notice of November 7, 2013, 78 FR 67289 (November 12, 2013): Notice of May 7, 2014, 79 FR 26589 (May 9, 2014).

2. Section 736.2 is amended by revising paragraph (b)(3)(i) to read as follows:

§ 736.2 General prohibitions and determination of applicability.

* * * * *

(b) * * *

(3) * * *

(i) Country scope of prohibition. You may not, without a license or license exception, reexport any item subject to the scope of this General Prohibition Three to a destination in Country Group D:1 or E:1 (See Supplement No.1 to part 740 of the EAR). Additionally, you may not, without a license or license exception, reexport or export from abroad an ECCN 0A919 commodities subject to the scope of this General Prohibition Three to a destination in Country Group D:1, D:3, D:4, D:5 or E:1.

* * * * *

3. Supplement No. 1 to part 736, under paragraph (e) (General Order No. 5), is amended by redesignating paragraph (a) as paragraph (e)(1); paragraph (b) as paragraph (e)(2); paragraph (b)(1) as paragraph (e)(2)(i); paragraph (b)(2) as paragraph (e)(2)(ii); paragraph (c) as paragraph (e)(3); and paragraph (d) as paragraph (e)(4), respectively.

4. Supplement No. 2 to Part 736 is amended by removing the phrase “Administration Order” in Administrative Order Two under paragraph (a)(3) introductory text and adding in its place the phrase “Administrative Order”.

PART 738—[AMENDED]

5. The authority citation for 15 CFR part 738 continues to read as follows:

Authority: 50 U.S.C. app. 2401 et seq.; 50 U.S.C. 1701 et seq.; 10 U.S.C. 7420; 10 U.S.C. 7430(e); 22 U.S.C. 287c; 22 U.S.C. 3201 et seq.; 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 8, 2013, 78 FR 49107 (August 12, 2013).

6. Section 738.4 is amended by revising paragraph (b)(2) to read as follows:

§ 738.4 Determining whether a license is required.

* * * * *

(b) * * *

(2) Sample CCL entry.

2A000: Entry heading.

License Requirements

Reason for Control: NS, NP, AT
Control(s) | Country chart (see supp. No. 1 to part 738).
NS applies to entire entry | NS Column 2.
NP applies to 2A000.b | NP Column 1.
AT applies to entire entry | AT Column 1.

List Based License Exceptions (See Part 740 for a description of all license exceptions)

LVS: $5,000.

GBS: Yes.

CIV: N/A.

List of Items Controlled

Related Controls: N/A.

Related Definitions: N/A.

Items: a. Having x.

b. Having z.

* * * * *

PART 740—[AMENDED]

7. The authority citation for 15 CFR part 740 continues to read as follows:

Authority: 50 U.S.C. app. 2401 et seq.; 50 U.S.C. 1701 et seq.; 22 U.S.C. 7201 et seq.; E.O. 13026, 61 FR 58767, 3 CFR, 1996 Comp., p. 228; E.O. 13222, 66 FR 44025, 3 CFR, 2001 Comp., p. 783; Notice of August 8, 2013, 78 FR 49107 (August 12, 2013).

8. Section 740.2 is amended:

a. In paragraph (a)(5)(i) by removing phrase “§ 740.9(a)(2)(ii)” and adding in its place “§ 740.9(a)(4)”;

b. In paragraph (a)(5)(ii) by removing phrase “§ 740.9(a)(2)(ii)” and adding in its place “§ 740.9(a)(4)”; and

c. By revising the last sentence in the introductory text of paragraph (a)(13) and paragraph (a)(13)(vi) to read as follows:

§ 740.2 Restrictions on all license exceptions.

(a) * * *

* * * * *

(13) * * * Only the following license exceptions may be used to export “600 series” items to destinations other than those identified in Country Group D:5 (see Supplement No.1 to part 740 of the EAR):

* * * * *

(vi) License Exception STA under § 740.20(c)(1) of the EAR, provided all of the applicable terms and conditions, including those specific to the “600 series” are met.

* * * * *

§ 740.9 [Amended]

9. Section 740.9 is amended:

a. By revising the heading of paragraph (a)(6) to read “Inspection, test, calibration, and repair.”; and

b. In paragraph (c)(8) by removing the phrase “paragraphs (a) through (e)” and adding in its place “paragraphs (a) through (d)”.

10. Section 740.10 is amended:

a. By revising the first sentence of paragraph (a)(2)(ii);

b. By revising the second sentence of paragraph (a)(4)(i);

c. By revising paragraph (b)(1);

d. By revising paragraph (b)(3) introductory text; and

e. By revising the introductory text of paragraph (b)(3)(ii) to read as follows:

§ 740.10 License Exception Servicing and replacement of parts and equipment (RPL).

* * * * *

(a) * * *

(2) * * *

(ii) Parts, components, accessories, and attachments may be exported only to replace, on a one-for-one basis, parts, components, accessories, or attachments, respectively, contained in commodities that were: Lawfully exported from the United States; lawfully reexported; or made in a foreign country incorporating authorized parts, components, accessories, or attachments “subject to the EAR” (see § 734.2(a) of the EAR). * * *

(iii) * * *

* * * * *

(4) * * *

(i) * * * A party reexporting one-for-one replacement parts, components, accessories, or attachments “subject to the EAR” shall ensure that the commodities being repaired were shipped to their present location in accordance with U.S. law and continue to be lawfully used, and that either before or promptly after reexport of the replacement parts, components, accessories, or attachments, the replaced commodities and software are either destroyed or returned to the United States, or to the foreign firm in Country Group B (see Supplement No. 1 to this part) that shipped the replacement parts.

* * * * *

(b) * * * (1) Scope. The provisions of this paragraph (b) authorize the export and reexport to any destination, except for “600 series” items to destinations identified in Country Group D:5 (see Supplement No. 1 to this part) or otherwise prohibited under the EAR, of commodities and software that were sent to the United States or to a foreign party for servicing and replacement of defective or unacceptable commodities and software “subject to the EAR” (see § 734.2(a) of the EAR).

* * * * *

(3) Replacements for defective or unacceptable equipment “subject to the EAR.”

* * * * *

(ii) In addition to the general conditions in paragraph (b)(3)(i) of this section, the following conditions apply to exports or reexports of replacements for defective or unacceptable commodities or software “subject to the EAR” (see § 734.2(a) of the EAR) to a destination in Country Group B or Country Group D:1 (see Supplement No. 1 to this part):

* * * * *

11. Section 740.11 is amended:

a. By revising the section heading;

b. By revising paragraph (c) heading;

c. By revising paragraph (c)(1);

d. By redesignating paragraph (c)(2)(ii) as paragraph (c)(2)(iii);

e. By adding new paragraph (c)(2)(ii); and

f. By revising paragraphs (c)(3)(i), (c)(3)(v), and (c)(3)(vi), to read as follows:

§ 740.11 Governments, international organizations, international inspections under the Chemical Weapons Convention, and the International Space Station (GOV).

* * * * *

(c) Cooperating Governments and the North Atlantic Treaty Organization. (1) Scope. The provisions of this paragraph (c) authorize exports, reexports, and transfers (in-country) of the items listed in paragraph (c)(2) of this section to agencies of cooperating governments or agencies of the North Atlantic Treaty Organization (NATO). `Agency of a cooperating government' includes all civilian and military departments, branches, missions, and other governmental agencies of a cooperating national government. Cooperating governments are the national governments of countries listed in Country Group A:1 (see Supplement No. 1 to this part) and the national governments of Argentina, Austria, Finland, Hong Kong, Ireland, Korea (Republic of), New Zealand, Singapore, Sweden, Switzerland and Taiwan.

(2) * * *

(ii) Items for official use by agencies of cooperating governments for military purposes or NATO. With the exception of items excluded by paragraph (c)(3) of this section, this license exception is available for all items consigned to and for the official use of:

(A) A military end user of or for the military end use of cooperating governments, or

(B) An agency of NATO.

* * * * *

(3) * * *

(i) Items on the Sensitive List (see Supplement No. 6 to part 774 of the EAR), except to or for the use by governments of countries listed in Country Group A:5 (see Supplement No. 1 to this part) or an agency of NATO;

* * * * *

(v) “600 series” items, except to or for the use by governments of countries listed in Country Group A:5 (see Supplement No. 1 to this part) or an agency of NATO;

(vi) Items controlled for nuclear nonproliferation (NP) reasons; or

* * * * *

§ 740.12 [Amended]

12. Section 740.12 is amended by redesignating footnote 2 to paragraph (a) as footnote 1 to paragraph (a).

§ 740.13 [Amended]

13. Section 740.13 is amended by redesignating footnote 3 to paragraph (d)(1) as footnote 2.

§ 740.15 [Amended]

14. Section 740.15 is amended:

a. By redesignating footnote 4 and 5 to paragraphs (c)(1) and (c)(2) as footnotes 3 and 4, respectively; and

b. In paragraph (c)(2)(iv) by removing the phrase “record is filed”.

15. Section 740.20 is amended:

a. By revising paragraph (b)(3)(ii)(B);

b. By revising paragraph (b)(3)(ii)(C);

c. By revising the Note to paragraph (c)(1);

d. In the introductory text of paragraph (d)(2) by adding a sentence to beginning of this paragraph after the paragraph heading and by revising the last two sentences in the introductory text of paragraph (d)(2);

e. By redesignating paragraphs (d)(2)(iv), (v), (vi) and (vii), as paragraphs (d)(2)(v), (vi), (vii) and (viii), respectively;

f. By adding a new paragraph (d)(2)(iv);

g. By revising newly redesignated paragraph (d)(2)(vii)(B);

h. By revising newly redesignated paragraph (d)(2)(vii)(C); and

i. By adding undesignated bracketed text at the end of paragraph (d)(2) to read as follows:

§ 740.20 License Exception Strategic Trade Authorization (STA).

* * * * *

(b) * * *

(3) * * *

(ii) * * *

(B) For the “development,” “production,” operation, installation, maintenance, repair, overhaul, or refurbishing of an item in one of the countries listed in Country Group A:5 or the United States that will be for one, or more, of the following purposes:

(1) Ultimately to be used by any such government agencies in one of the countries listed in Country Group A:5 or the United States Government; or

(2) Sent to a person in the United States and not for subsequent export under § 740.9(b)(1) (License Exception TMP for items moving in transit through the United States); or

(C) The United States Government has otherwise authorized the ultimate end use, the license or other authorization is in effect, and the consignee verifies in writing that such authorization exists and has provided the license or other approval identifier to the exporter, reexporter or transferor (as applicable).

* * * * *

(c) * * *

* * * * *

Note to paragraph (c)(1). License Exception STA under § 740.20(c)(1) may be used to authorize the export, reexport, or transfer (in-country) of “600 series” items only if the purchaser, intermediate consignee, ultimate consignee, and end user have previously been approved on a license or other approval, i.e., Directorate of Defense Trade Controls (DDTC) Manufacturing License Agreement (MLA), Technical Assistance Agreement (TAA), Warehouse Distribution Agreement (WDA), or General Correspondence approval (GC) issued by BIS or DDTC at the U.S. Department of State.

* * * * *

(d) * * *

(2) Prior Consignee Statement. The requirements in this paragraph (d)(2) apply to each party using License Exception STA to export, reexport or transfer (in-country), including reexporters and transferors of items previously received under License Exception STA. * * * Paragraphs (d)(2)(i) through (vi) of this section are required for all transactions. In addition, paragraph (d)(2)(vii) is required for all transactions in “600 series” items and paragraph (viii) of this section is required for transactions in “600 series” items if the consignee is not the government of a country listed in Country Group A:5 (See Supplement No. 1 to part 740 of the EAR).

* * * * *

(iv) Agrees to obtain a prior consignee statement when using License Exception STA for any reexport or transfer (in-country) of items previously received under License Exception STA;

* * * * *

(vii) * * *

(B) For the “development,” “production,” operation, installation, maintenance, repair, overhaul, or refurbishing of an item in one of the countries listed in Country Group A:5 or the United States that will be for one, or more, of the following purposes:

(1) Ultimately to be used by any such government agencies in one of the countries listed in Country Group A:5 or the United States Government; or

(2) Sent to a person in the United States and not for subsequent export under § 740.9(b)(1) (License Exception TMP for items moving in transit through the United States); or

(C) The United States Government has otherwise authorized the ultimate end use, the license or other authorization is in effect, and the consignee verifies in writing that such authorization exists and has provided the license or other approval identifier to the exporter, reexporter or transferor (as applicable).

* * * * *

[INSERT NAME AND TITLE OF PERSON SIGNING THIS DOCUMENT, AND DATE DOCUMENT IS SIGNED].

* * * * *

16. Supplement No. 1 to part 740, Country Group D is amended by adding a row in alphabetical order for: Central African Republic, and by adding an “X” under the D:5 column for the Central African Republic row.

PART 742—[AMENDED]

17. The authority citation for 15 CFR part 742 continues to read as follows:

Authority: 50 U.S.C. app. 2401 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23 of May 7, 2003, 68 FR 26459, May 16, 2003; Notice of August 8, 2013, 78 FR 49107 (August 12, 2013); Notice of November 7, 2013, 78 FR 67289 (November 12, 2013).

18. Section 742.6 is amended by revising the first sentence of paragraph (b)(1) to read as follows:

§ 742.6 Regional stability.

* * * * *

(b) * * * (1) Applications for exports and reexports of “600 series” items will be reviewed on a case-by-case basis to determine whether the transaction is contrary to the national security or foreign policy interests of the United States, including the foreign policy interest of promoting the observance of human rights throughout the world.* * *

* * * * *

PART 744—[AMENDED]

19. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 8, 2013, 78 FR 49107 (August 12, 2013); Notice of September 18, 2013, 78 FR 58151 (September 20, 2013); Notice of November 7, 2013, 78 FR 67289 (November 12, 2013); Notice of January 21, 2014, 79 FR 3721 (January 22, 2014).

§ 744.17 [Amended]

20. Section 744.17 is amended in paragraph (e) by removing the phrase `military end-uses' and adding in its place `military end uses' with single quotes.

21. Section 744.21 is amended by revising the section heading to read as follows:

§ 744.21 Restrictions on certain `military end uses' in the People's Republic of China (PRC).

* * * * *

PART 746—[AMENDED]

22. The authority citation for 15 CFR part 746 is revised to read as follows:

Authority: 50 U.S.C. app. 2401 et seq.; 50 U.S.C. 1701 et seq.; 22 U.S.C. 287c; Sec 1503, Pub. L. 108-11, 117 Stat. 559; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 66 FR 44025, 3 CFR, 2001 Comp., p. 783; E.O. 13338, 69 FR 26751, 3 CFR, 2004 Comp., p 168; Presidential Determination 2003-23 of May 7, 2003, 68 FR 26459, May 16, 2003; Presidential Determination 2007-7 of December 7, 2006, 72 FR 1899 (January 16, 2007); Notice of August 8, 2013, 78 FR 49107 (August 12, 2013); Notice of May 7, 2014, 79 FR 26589 (May 9, 2014).

23. Section 746.1 is amended by revising paragraph (b)(2) to read as follows:

§ 746.1 Introduction.

* * * * *

(b) * * *

(2) The countries subject to United Nations Security Council arms embargoes are: Central African Republic, Cote d'Ivoire (Ivory Coast), Democratic Republic of the Congo, Eritrea, Iran, Iraq, Lebanon, Liberia, Libya, North Korea, Somalia, and Sudan.

* * * * *

24. Section 746.2 is amended by revising paragraph (a)(1)(i) to read as follows:

§ 746.2 Cuba.

(a) * * *

(1) * * *

(i) Temporary exports and reexports (TMP) by the news media (see § 740.9(a)(9) of the EAR).

* * * * *

25. Section 746.3 is amended:

a. By removing the phrase “Interim Government of Iraq or the Multinational Force in Iraq” and adding in its place the phrase “Government of Iraq” in the first sentence of the introductory text of the section;

b. By removing the phrase “Interim Government of Iraq or the Multinational Force in Iraq” and adding in its place the phrase “Government of Iraq” in the second sentence of paragraph (a)(4); and

c. By revising paragraph (c) to read as follows:

§ 746.3 Iraq.

* * * * *

(c) License exceptions. You may export or reexport without a license if your transaction meets all the requirements of any of the following License Exceptions: CIV, APP, TMP, RPL, GOV, GFT, TSU, BAG, AVS, or ENC. For specific requirements of each of these License Exceptions, refer to part 740 of the EAR. Notwithstanding the above, this paragraph may not be applied to exports or reexports that require a license under paragraph (a)(4) of this section.

* * * * *

26. Section 746.4(c)(1) is amended:

a. In paragraph (c)(1) by removing the phrase “§ 740.9(a)(2)(viii)” and adding in its place “§ 740.9(a)(9)”.

b. In paragraph (c)(2) by removing the phrase “(b)(2)(i) and (b)(2)(ii)” and adding in its place “(b)(2)”.

§ 746.9 [Amended]

27. Section 746.9 is amended:

a. In paragraph (b)(1) by removing the phrase “§ 740.9(a)(2)(viii)” and adding in its place “§ 740.9(a)(9)”.

b. In paragraph (b)(2) by removing the phrase “§ 740.11(b)(2)(i) and (ii)” and adding in its place “§ 740.11(b)(2)”.

PART 748—[AMENDED]

28. The authority citation for 15 CFR part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 8, 2013, 78 FR 49107 (August 12, 2013).

§ 748.2 [Amended]

29. Section 748.2(a)(3) is amended by removing the phrase “(408) 998-8805 or”.

§ 748.4 [Amended]

30. Section 748.4(h) is amended by removing the phrase “§ 750.7(h)” and adding in its place “§ 750.7(g)” in the final sentence.

Supplement No. 1 to Part 748 [Amended]

31. Supplement No. 1 to part 748 is amended by adding a single space between “(x)” and the word “of” in the fifth sentence at the end of Block 24.

Supplement No. 7 to Part 748 [Amended]

32. Supplement No. 7 to part 748 (Authorization Validated End-User (VEU): List of Validated End-Users, Respective Items Eligible for Export, Reexport and Transfer, and Eligible Destinations) is amended by adding the citation “78 FR 54752, 9/6/13.” at the end of the entry in the “Federal Register Citation” Column for VEU “Lam Research Service Co., Ltd.” in “China, (Peoples Republic of)”.

PART 750—[AMENDED]

33. The authority citation for part 750 continues to read as follows:

Authority: 50 U.S.C. app. 2401 et seq.; 50 U.S.C. 1701 et seq.; Sec 1503, Pub. L. 108-11, 117 Stat. 559; E.O. 13026, 61 FR 58767, 3 CFR, 1996 Comp., p. 228; E.O. 13222, 66 FR 44025, 3 CFR, 2001 Comp., p. 783; E.O. 13637 of March 8, 2013, 78 FR 16129 (March 13, 2013); Presidential Determination 2003-23 of May 7, 2003, 68 FR 26459, May 16, 2003; Notice of August 8, 2013, 78 FR 49107 (August 12, 2013).

34. Section 750.7 is amended:

a. By revising paragraph (c)(1)(ix); and

b. By adding paragraph (c)(2) to read as follows:

§ 750.7 Issuance of licenses.

* * * * *

(c) * * *

(1) * * *

(ix) Direct exports, reexports, or transfers (in-country) to and among approved end users and the ultimate consignee on a license, provided those end users and ultimate consignee are listed by name and location on such license and the license does not contain any conditions specific to the ultimate consignee that cannot be complied with by the end user, such as a reporting requirement that must be made by the ultimate consignee. Reexports and transfers (in-country) among approved end users may be further limited by license conditions.

(2) In some circumstances, BIS may authorize changing the name of a person listed on a license (i.e., name of exporter, reexporter, purchaser, intermediate consignee, ultimate consignee or end user), provided the pertinent person has not undergone a change in ownership, including merger or acquisition, or any other change in legal status since the time the license was issued. In order to rely on this paragraph (c)(2), BIS must have approved the name change in response to an advisory opinion request submitted by the licensee pursuant to § 748.3(c) of the EAR and the instructions below.

(i) The advisory opinion request must be submitted on the licensee's company letterhead and include the following information:

(A) The title of the advisory opinion, in this format: “License name change notification and review request;”

(B) All license numbers subject to the notification and review request (either in the letter or as a separate attachment);

(C) The name(s) changing on the license(s) (include the original and new names), and when the name(s) are changing (either in the letter or as a separate attachment);

(D) Any background information available on the reasons for the name change(s) (e.g., press releases from the person changing its name(s)); and

(E) A statement regarding whether there has been a change in ownership, including a merger or acquisition, or any other change in legal status regarding the person(s) changing its name(s).

(F) Confirmation that, if the request is approved, the licensee will share the advisory opinion response from BIS with all other persons listed on the license, and inform those persons that the advisory opinion response must be retained pursuant to the recordkeeping requirements in part 762 of the EAR.

(ii) If BIS determines the name change is not a material change to the license and approves the request to change the name(s) on the license, BIS will send a written response to the licensee who submitted the notification. If BIS does not approve the request to change the name(s) on the license, BIS will send a written response to the licensee who submitted the notification.

(iii) For guidance on using an export license with approved name changes, see § 758.4(d) (Exports against license with approved name change).

(iv) If a license name change notification and review request is denied by BIS or the licensee determines that there has been a material change to the license, such as a change in ownership of a person on the license, including merger or acquisition, or any other change in legal status since the time the license was issued, a new license application should be submitted.

* * * * *

PART 758—[AMENDED]

35. The authority citation for part 758 continues to read as follows:

Authority: 50 U.S.C. app. 2401 et seq.; 50 U.S.C. 1701 et seq.; E.O. 13222, 66 FR 44025, 3 CFR, 2001 Comp., p. 783; Notice of August 8, 2013, 78 FR 49107 (August 12, 2013).

36. Section 758.1 is amended:

a. In paragraph (b)(3) by adding the phrase “or otherwise described” after the term “enumerated”;

b. In paragraph (c)(6) by removing the phrase “§ 740.9(a)(2)(i)” and adding in its place “§ 740.9(a)(1)”; and

c. By revising paragraph (f)(2) to read as follows:

§ 758.1 The Electronic Export Information (EEI) filing to the Automated Export System (AES).

* * * * *

(f) * * *

(2) Statements on the EEI filing are in conformity with the contents of any license issued by BIS, with the possible exception of the USPPI and USPPI identification blocks in routed transactions or any name change approved by BIS in writing in accordance with § 750.7(c)(2) of the EAR; and

* * * * *

37. Section 758.4 is amended by adding paragraph (d) to read as follows:

§ 758.4 Use of export license.

* * * * *

(d) Exports against license with approved name changes. If you are exporting against a license with approved name changes under § 750.7(c)(2) of the EAR, prior to using that export license you are required to include in the respective name field in AES (e.g., in the USPPI name field in AES), the new name followed by the original name in this format “[new name] f.k.a. [original name].” This reporting requirement would be completed by the authorized filer of the electronic export information (EEI) in AES. Although not required, the exporter may include a copy of the BIS written response approving the non-material name changes in accordance with § 750.7(c)(2) of the EAR. If the items have already been exported against the license by the time the name changes are approved, you are not required to report this additional information in AES, but you still must follow the recordkeeping requirements in part 762 of the EAR.

PART 762—[AMENDED]

38. The authority citation for 15 CFR part 762 continues to read as follows:

Authority: 50 U.S.C. app. 2401 et seq.; 50 U.S.C. 1701 et seq.; E.O. 13222, 66 FR 44025, 3 CFR, 2001 Comp., p. 783; Notice of August 8, 2013, 78 FR 49107 (August 12, 2013).

39. Section 762.2 is amended:

a. In paragraph (b)(9) by removing “§ 740.13(f)” and adding in its place “§ 740.13(h)”;

b. By revising paragraph (b)(13);

c. By removing the word “and” at the end of paragraph (b)(50);

d. By removing the period “.” at the end of paragraph (b)(51) and adding in its place a semi-colon “;”; and

e. By adding paragraphs (b)(52) and (b)(53) to read as follows:

§ 762.2 Records to be retained.

* * * * *

(b) * * *

(13) § 743.4(c)(1) and (c)(2), Conventional arms reporting;

* * * * *

(52) § 744.15(b), UVL statement as well as any logs or records created for multiple exports, reexports, and transfers (in-country); and

(53) § 750.7(c)(2), Notification of name change by advisory opinion request.

* * * * *

PART 772—[AMENDED]

40. The authority citation for 15 CFR part 772 continues to read as follows:

Authority: 50 U.S.C. app. 2401 et seq.; 50 U.S.C. 1701 et seq.; E.O. 13222, 66 FR 44025, 3 CFR, 2001 Comp., p. 783; Notice of August 8, 2013, 78 FR 49107 (August 12, 2013).

41. Section 772.1 is amended:

a. In the definition of “specially designed” by removing the word “a” immediately before the phrase “achieving or exceeding” in the fourth sentence of Note to paragraph (a)(1);

b. In the definition of “technology” by adding a sentence to the end of the definition, and by redesignating the Note as Note 1 and by adding a new Note 2; and

c. In the definition of “use” by adding a new Note to read as follows:

§ 772.1 Definitions of terms as used in the Export Administration Regulations (EAR).

* * * * *

Technology. * * * “Technology” also is specific information necessary for any of the following: Operation, installation (including on-site installation), maintenance (checking), repair, overhaul, refurbishing, or other terms specified in ECCNs on the CCL that control “technology.”

* * * * *

Note 2: “Technology” not elsewhere specified on the CCL is designated as EAR99, unless the “technology” is subject to the exclusive jurisdiction of another U.S. Government agency (see § 734.3(b)(1)) or is otherwise not subject to the EAR (see § 734.4(b)(2) and (b)(3) and §§ 734.7 through 734.11 of the EAR).

* * * * *

Use. * * *

Note: If an ECCN specifies one or more of the six elements of “use” in the heading or control text, only those elements specified are classified under that ECCN.

* * * * *

PART 774—[AMENDED]

42. The authority citation for 15 CFR part 774 continues to read as follows:

Authority: 50 U.S.C. app. 2401 et seq.; 50 U.S.C. 1701 et seq.; 10 U.S.C. 7420; 10 U.S.C. 7430(e); 22 U.S.C. 287c, 22 U.S.C. 3201 et seq.; 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 8, 2013, 78 FR 49107 (August 12, 2013).

43. Section 774.1 is amended by revising paragraph (b)(3) and the Note to paragraph (b) to read as follows:

§ 774.1 Introduction.

* * * * *

(b) * * *

(3) The following multilateral export control regime reference is provided, as an additional point of historical reference: 0C201—INFCIRC 254 Part 1, 5.3.1(b).

Note to paragraph (b): ECCNs 0D001 and 0E001 are “subject to the ITAR” (see 22 CFR parts 120 through 130). These ECCNs are retained on the CCL as cross references to the ITAR, although the former cross references to export licensing authority of the Nuclear Regulatory Commission (see 10 CFR part 110) for ECCN 0D001, and to the Department of Energy (see 10 CFR part 810) for 0E001 were removed from the Control(s) paragraph in the License Requirements section of these two ECCNs and added as a more general jurisdictional cross reference in a heading note added to these two ECCNs as of June 5, 2014.

* * * * *

44. In Supplement No. 1 to part 774 (the Commerce Control List), Category 0—Nuclear Materials, Facilities & Equipment (and Miscellaneous Items), Export Control Classification Number (ECCN) 0A604 is amended by revising the heading, as added January 2, 2014, at 79 FR 282, effective July 1, 2014, to read as follows:

Supplement No. 1 to Part 774—The Commerce Control List

* * * * *

0A604 Commodities related to military explosive devices and charges (see List of Items Controlled).

* * * * *

45. Supplement No. 1 to part 774 (the Commerce Control List), is amended by adding quotes around the phrase “subject to the ITAR” wherever it appears in Export Control Classification Numbers (ECCNs): 0A604, 0A614, 1A005, 1A613, 1B608, 1C239, 9D001, 9D002, 9D003, 9D104, 9E001, 9E002, 9E101, and 9E102, as added January 2, 2014, at 79 FR 282-294, effective July 1, 2014.

46. In Supplement No. 1 to part 774 (the Commerce Control List), Category 0—Nuclear Materials, Facilities & Equipment (and Miscellaneous Items), Export Control Classification Number (ECCN) 0A606 is amended:

a. By adding quotes around the term “specially designed” in Note 2.a to paragraph a. in the “Items” paragraph in the List of Items Controlled section;

b. By adding quotes around the term “components” wherever it appears in the introductory text of Note 2 to paragraph a, and in Notes 2.b.1.a, 2.f, and y.12. in the “Items” paragraph in the List of Items Controlled section.

c. By adding quotes around the term “parts” ” in Note 2.b to paragraph a in the “Items” paragraph in the List of Items Controlled section; and

b. By revising the heading to read as follows:

0A606 Ground vehicles and related commodities, as follows (see List of Items Controlled).

* * * * *

47. In Supplement No. 1 to part 774 (the Commerce Control List), Category 0—Nuclear Materials, Facilities & Equipment (and Miscellaneous Items), Export Control Classification Number (ECCN) 0A614 is amended by revising the heading, as added January 2, 2014, at 79 FR 282, effective July 1, 2014, to read as follows:

0A614 Military training “equipment,” as follows (see List of Items Controlled).

* * * * *

48. In Supplement No. 1 to part 774 (the Commerce Control List), Category 0—Nuclear Materials, Facilities & Equipment (and Miscellaneous Items), Export Control Classification Number (ECCN) 0A617 is amended:

a. By adding quotes around the terms “components” and “parts” in the “Related Controls” paragraph (6) in the List of Items Controlled section;

b. By adding quotes around the term “specially designed” in the “Related Controls” paragraph (10) in the List of Items Controlled section; and

c. By adding a “Related Definitions” paragraph after the “Related Controls” paragraph in the List of Items Controlled Section to read as follows:

0A617 Miscellaneous “equipment,” materials, and related commodities (see List of Items Controlled).

* * * * *

List of Items Controlled

* * * * *

Related Definitions: N/A

* * * * *

49. In Supplement No. 1 to part 774 (the Commerce Control List), Category 0—Nuclear Materials, Facilities & Equipment (and Miscellaneous Items), Export Control Classification Number (ECCN) 0A918 is amended by revising the heading to read as follows:

0A918 Miscellaneous military equipment not on the Wassenaar Munitions List (see List of Items Controlled).

* * * * *

50. In Supplement No. 1 to part 774 (the Commerce Control List), Category 0—Nuclear Materials, Facilities & Equipment (and Miscellaneous Items), Export Control Classification Number (ECCN) 0A988 is amended by further revising the heading, as revised January 2, 2014, at 79 FR 283, effective July 1, 2014, to read as follows:

0A988 Conventional military steel helmets as described by 0A018.d.1.

* * * * *

51. In Supplement No. 1 to part 774 (the Commerce Control List), Category 0—Nuclear Materials, Facilities & Equipment (and Miscellaneous Items), Export Control Classification Number (ECCN) 0B604 is amended by revising the heading, as added January 2, 2014, at 79 FR 283, effective July 1, 2014, to read as follows:

0B604 Test, inspection, and production “equipment” and related commodities “specially designed” for the “development,” “production,” repair, overhaul, or refurbishing of commodities in ECCN 0A604 or related defense articles in USML Category IV (see List of Items Controlled).

* * * * *

52. In Supplement No. 1 to part 774 (the Commerce Control List), Category 0—Nuclear Materials, Facilities & Equipment (and Miscellaneous Items), Export Control Classification Number (ECCN) 0B614 is amended by revising the heading, as added January 2, 2014, at 79 FR 283, effective July 1, 2014, to read as follows:

0B614 Test, inspection, and production “equipment” for military training “equipment” and “specially designed” “parts,” “components,” “accessories” and “attachments” therefor, as follows (see List of Items Controlled).

* * * * *

53. In Supplement No. 1 to part 774 (the Commerce Control List), Category 0—Nuclear Materials, Facilities & Equipment (and Miscellaneous Items), Export Control Classification Number (ECCN) 0D001 is amended:

a. By further revising the heading, as revised January 2, 2014, at 79 FR 283, effective July 1, 2014;

b. By adding a heading note; and

c. By removing the first Control(s) paragraph in License Requirements section, to read as follows:

0D001 “Software” “specially designed” or modified for the “development,” “production,” or “use” of commodities described in 0A002. (These items are “subject to the ITAR.” See 22 CFR parts 120 through 130.)

Heading Note: Certain “software” for the “development,” “production,” or “use” of nuclear related commodities is subject to the export licensing authority of the Nuclear Regulatory Commission (see 10 CFR part 110).

* * * * *

54. Supplement No. 1 to part 774 (the Commerce Control List), is amended by adding the phrase “(see List of Items Controlled).” at the end of the headings in Export Control Classification Numbers (ECCN): 0D604, 0E604, 1D608, 1E608, 9D604, and 9E604, as added January 2, 2014, at 79 FR 284-294, effective July 1, 2014.

55. Supplement No. 1 to part 774 (the Commerce Control List), is amended by adding a period at the end of the headings in Export Control Classification Numbers (ECCN): 0D614, 0E614, 1B608, 1B613, 1C018, 1D018, 1D613, 1E001, 1E101, 1E201, 9A604, 9B115, 9B116, 9B604, 9D001, 9D002, 9D003, 9D104, 9E001, 9E101, and 9E102, as added January 2, 2014, at 79 FR 284-294, effective July 1, 2014.

56. In Supplement No. 1 to part 774 (the Commerce Control List), Category 0—Nuclear Materials, Facilities & Equipment (and Miscellaneous Items), Export Control Classification Number (ECCN) 0E001 is amended:

a. By further revising the heading, as revised January 2, 2014, at 79 FR 284, effective July 1, 2014;

b. By adding a heading note; and

c. By removing the first Control(s) paragraph in the License Requirements section to read as follows:

0E001 “Technology,” according to the Nuclear Technology Note, for the “development,” “production,” or “use” of items described in 0A002, or 0D001.

Heading Note: “Technology” for certain items subject to the export licensing authority of the Nuclear Regulatory Commission (see 10 CFR part 110) is subject to the export licensing authority of the Department of Energy (see 10 CFR part 810).

* * * * *

57. In Supplement No. 1 to part 774 (the Commerce Control List), Category 0—Nuclear Materials, Facilities & Equipment (and Miscellaneous Items), Export Control Classification Number (ECCN) 0E018 is amended by adding a period after the phrase “for items formerly controlled by 0A018.a” in the Note to the “items” paragraph in the List of Items Controlled section.

58. In Supplement No. 1 to part 774 (the Commerce Control List), Category 0—Nuclear Materials, Facilities & Equipment (and Miscellaneous Items), Export Control Classification Number (ECCN) 0E614 is amended by adding a comma between the terms “repair” and “overhaul” in the “items” paragraph a in the List of Items Controlled section, as added January 2, 2014, at 79 FR 285, effective July 1, 2014.

59. In Supplement No. 1 to part 774 (the Commerce Control List), Category 1—Special Materials and Related Equipment, Chemicals, add the Product Group D heading “SOFTWARE” immediately before Export Control Classification Number (ECCN) 1D001.

60. In Supplement No. 1 to part 774 (the Commerce Control List), Category 1—Special Materials and Related Equipment, Chemicals, “Microorganisms” and “Toxins,” the Technical Note introductory text after the Product Group C: “Materials” heading is amended by removing “1C012” and adding in its place “1C011”.

61. In Supplement No. 1 to part 774 (the Commerce Control List), Category 1—Special Materials and Related Equipment, Chemicals, “Microorganisms” and “Toxins,” Export Control Classification Number (ECCN) 1A001 is amended by adding quotes around “specially designed” in the “Related Controls” paragraph (1) in the List of Items Controlled section.

62. In Supplement No. 1 to part 774 (the Commerce Control List), Category 1—Special Materials and Related Equipment, Chemicals, “Microorganisms” and “Toxins,” Export Control Classification Number (ECCN) 1A004 is amended by removing the term “agent” and adding in its place the term “agents” in Technical Note 1 to the “items” paragraph in the List of Items Controlled section.

63. In Supplement No. 1 to part 774 (the Commerce Control List), Category 1—Special Materials and Related Equipment, Chemicals, “Microorganisms” and “Toxins,” Export Control Classification Number (ECCN) 1A007 is amended by adding quotes around the term “specially designed” in the heading and in the “Related Controls” paragraph in the List of Items Controlled section, as revised January 2, 2014, at 79 FR 285, effective July 1, 2014.

64. In Supplement No. 1 to part 774 (the Commerce Control List), Category 1—Special Materials and Related Equipment, Chemicals, “Microorganisms” and “Toxins,” Export Control Classification Number (ECCN) 1A101 is amended by removing the term “which” in the “Related Controls” paragraph (2) in the List of Items Controlled section.

65. In Supplement No. 1 to part 774 (the Commerce Control List), Category 1—Special Materials and Related Equipment, Chemicals, “Microorganisms” and “Toxins,” Export Control Classification Number (ECCN) 1A613, as added January 2, 2014, at 79 FR 286, effective July 1, 2014, is amended:

a. By revising the heading;

b. By adding “Related Controls” paragraph (3) to the “Related Controls” paragraph in the List of Items Controlled section; and

c. By revising “items” paragraph e and adding “items” paragraph f in the List of Items Controlled section.

1A613 Armored and protective “equipment” and related commodities, as follows (see List of Items Controlled).

* * * * *

List of Items Controlled

Related Controls: * * * (3) See ECCN 9A610.g for anti-gravity suits (“G-suits”) and pressure suits capable of operating at altitudes higher than 55,000 feet above sea level.

* * * * *

Items:

* * * * *

e. Atmospheric diving suits “specially designed” for rescue operations for submarines controlled by the USML or the CCL.

f. Other personal protective “equipment” “specially designed” for military applications not controlled by the USML, not elsewhere controlled on the CCL.

* * * * *

66. In Supplement No. 1 to part 774 (the Commerce Control List), Category 1—Special Materials and Related Equipment, Chemicals, “Microorganisms” and “Toxins,” Export Control Classification Number (ECCN) 1A984 is amended by revising the heading to read as follows:

1A984 Chemical agents, including tear gas formulation containing 1 percent or less of orthochlorobenzalmalononitrile (CS), or 1 percent or less of chloroacetophenone (CN), except in individual containers with a net weight of 20 grams or less; liquid pepper except when packaged in individual containers with a net weight of 3 ounces (85.05 grams) or less; smoke bombs; non-irritant smoke flares, canisters, grenades and charges; and other pyrotechnic articles (excluding shotgun shells) having dual military and commercial use, and “parts” and “components” “specially designed” therefor, n.e.s.

* * * * *

67. In Supplement No. 1 to part 774 (the Commerce Control List), Category 1—Special Materials and Related Equipment, Chemicals, “Microorganisms” and “Toxins,” Export Control Classification Number (ECCN) 1C111 is amended by removing “C111.c.1” and adding “1C111.c.1” in its place in the “Related Controls” paragraph (1) in the List of Items Controlled section.

68. In Supplement No. 1 to part 774 (the Commerce Control List), Category 1—Special Materials and Related Equipment, Chemicals, “Microorganisms,” and “Toxins,” Export Control Classification Number (ECCN) 1C239 is amended by revising the heading to read as follows:

1C239 High explosives, other than those controlled by the U.S. Munitions List, or substances or mixtures containing more than 2% by weight thereof, with a crystal density greater than 1.8 g/cm³ and having a detonation velocity greater than 8,000 m/s.

* * * * *

69. In Supplement No. 1 to part 774 (the Commerce Control List), Category 1—Special Materials and Related Equipment, Chemicals, “Microorganisms” and “Toxins,” Export Control Classification Number (ECCN) 1C350, Item.c.12 is amended by removing “Ethyldiethan-olamine” and adding “Ethyldiethanolamine” in its place.

70. In Supplement No. 1 to part 774 (the Commerce Control List), Category 1—Special Materials and Related Equipment, Chemicals, “Microorganisms” and “Toxins,” Export Control Classification Number (ECCN) 1C608 is amended by revising the heading, as added January 2, 2014, at 79 FR 288, effective July 1, 2014, to read as follows:

1C608 Energetic materials and related commodities (see List of Items Controlled).

* * * * *

71. In Supplement No. 1 to part 774 (the Commerce Control List), Category 1—Special Materials and Related Equipment, Chemicals, “Microorganisms” and “Toxins,” Export Control Classification Number (ECCN) 1D018 is amended by adding quotes around the term “specially designed” in the heading, as added January 2, 2014, at 79 FR 289, effective July 1, 2014.

72. In Supplement No. 1 to part 774 (the Commerce Control List), Category 1—Special Materials and Related Equipment, Chemicals, “Microorganisms” and “Toxins,” Export Control Classification Number (ECCN) 1E001 is amended:

a. By adding quotes around the term “specially designed” in the “Related Controls” paragraph (3) in the List of Items Controlled section, as revised January 2, 2014, at 79 FR 290, effective July 1, 2014; and

b. By removing the phrase “eight destinations listed in § 740.20(c)(2) of the EAR” and adding in its place “destinations listed in Country Group A:6 (See Supplement No.1 to part 740 of the EAR)” in the STA paragraph of the “Special Conditions for STA” section.

73. In Supplement No. 1 to part 774 (the Commerce Control List), Category 2—Materials Processing, Export Control Classification Number (ECCN) 2A291 is amended by adding quotes around the term “accessories” in the “items” paragraph d in the List of Items Controlled section.

74. In Supplement No. 1 to part 774 (the Commerce Control List), Category 2—Materials Processing, Export Control Classification Number (ECCN) 2B350 is amended by removing the term “include” and adding in its place “includes” in the “Related Definitions” paragraph in the List of Items Controlled section.

75. In Supplement No. 1 to part 774 (the Commerce Control List), Category 2—Materials Processing, Export Control Classification Number (ECCN) 2B352 is amended:

a. By revising “items” paragraph h and the introductory text of paragraph i in the List of Items Controlled section; and

b. By revising “Technical Notes” paragraph 2 at the end of the “items” paragraph in the List of Items Controlled section to read as follows:

2B352 Equipment capable of use in handling biological materials, as follows (see List of Items Controlled).

* * * * *

List of Items Controlled

* * * * *

Items:

* * * * *

h. Chambers designed for aerosol challenge testing with microorganisms, viruses, or toxins and having a capacity of 1 m³ or greater.

i. Spraying or fogging systems and “parts” and “components” therefor, as follows:

* * * * *

Technical Notes:

* * * * *

2. This ECCN does not control spraying or fogging systems, “parts” and “components,” as specified in 2B352.i, that are demonstrated not to be capable of delivering biological agents in the form of infectious aerosols.

* * * * *

76. In Supplement No. 1 to part 774 (the Commerce Control List), Category 2—Materials Processing, Export Control Classification Number (ECCN) 2B999 is amended by revising the “Related Controls” paragraph in the List of Items Controlled section to read as follows:

2B999 Specific processing equipment, n.e.s., as follows (see List of Items Controlled).

* * * * *

List of Items Controlled

Related Controls: (1) See also 1B233, 2A293, 2B001.f, 2B004, 2B009, 2B104, 2B109, 2B204, 2B209, 2B228, 2B229, 2B231, and 2B350. (2) Certain nuclear related processing equipment is subject to the export licensing authority of the Nuclear Regulatory Commission (see 10 CFR part 110).

* * * * *

77. In Supplement No. 1 to part 774 (the Commerce Control List), Category 2—Materials Processing, the Category 2E—Materials Processing Table; Deposition Techniques is amended by removing the phrase “Dielectric Players” and adding in its place “Dielectric layers” in the third column of the fifth row of the table.

78. In Supplement No. 1 to part 774 (the Commerce Control List), Category 3—Electronics, Export Control Classification Number (ECCN) 3A001 is amended by adding quotes around the terms “accessories” and “attachments” in “Related Controls” paragraph (2)(c) in the List of Items Controlled section.

79. In Supplement No. 1 to part 774 (the Commerce Control List), Category 3—Electronics, Export Control Classification Number (ECCN) 3E982 is amended by removing the term “require” and adding in its place “required” in quotes in the heading.

80. In Supplement No. 1 to part 774 (the Commerce Control List), Category 4—Computers, Export Control Classification Number (ECCN) 4A003 is amended by redesignating “Note 1” as “Note” at the end of the License Requirements section;

81. In Supplement No. 1 to part 774 (the Commerce Control List), Category 5—Telecommunications and “Information Security,” Part 1 Telecommunications, Export Control Classification Number (ECCN) 5A001 is amended by adding quotes around the term “accessories” in “items” paragraph b in the List of Items Controlled section.

82. In Supplement No. 1 to part 774 (the Commerce Control List), Category 5—Telecommunications and “Information Security,” Part 1 Telecommunications, Export Control Classification Number (ECCN) 5A980 is amended by revising the heading to read as follows:

5A980 Devices primarily useful for the surreptitious interception of wire, oral, or electronic communications, other than those controlled under 5A001.f.1; and “parts,” “components” and “accessories” therefor.

* * * * *

83. In Supplement No. 1 to part 774 (the Commerce Control List), Category 5—Telecommunications and “Information Security,” Part 1—Telecommunications, Export Control Classification Number (ECCN) 5B001 is amended:

a. By removing the phrase “eight destinations listed in § 740.20(c)(2) of the EAR” and adding in its place “destinations listed in Country Group A:6 (See Supplement No.1 to part 740 of the EAR)” in the STA paragraph of the “Special Conditions for STA” section; and

b. By adding quotes around the term “components” in “items” paragraph b in the List of Items Controlled section.

84. In Supplement No. 1 to part 774 (the Commerce Control List), Category 5—Telecommunications and “Information Security,” Part 2—Information Security:

a. Add the Product Group A heading “END ITEMS,” “EQUIPMENT,” “ACCESSORIES,” “ATTACHMENTS,” “PARTS,” “COMPONENTS,” AND “SYSTEMS” immediately before Export Control Classification Number (ECCN) 5A002;

b. Add the Product Group B heading TEST, INSPECTION AND “PRODUCTION EQUIPMENT” immediately before Export Control Classification Number (ECCN) 5B002; and

c. Add the Product Group E heading “TECHNOLOGY” immediately before Export Control Classification Number (ECCN) 5E002.

85. In Supplement No. 1 to part 774 (the Commerce Control List), Category 5—Telecommunications and “Information Security,” Part 2—Information Security, Export Control Classification Number (ECCN) 5A002 is amended by adding the word “and” before the term “components” in the heading.

86. In Supplement No. 1 to part 774 (the Commerce Control List), Category 6—Sensors and Lasers, Export Control Classification Number (ECCN) 6A002 is amended by revising the Special Conditions for STA section to read as follows:

6A002 Optical sensors and equipment, and “components” therefor, as follows (see List of Items Controlled).

* * * * *

Special Conditions for STA

STA: License Exception STA may not be used to ship to any of the destinations listed in Country Group A:6 (See Supplement No. 1 to part 740 of the EAR) any commodity in: 6A002.a.1.a, a.1.b or a.1.c; 6A002.a.3.c, a.3.d, a.3.e, or a.3.f; or 6A002.b.

* * * * *

87. In Supplement No. 1 to part 774 (the Commerce Control List), Category 6—Sensors and Lasers, Export Control Classification Number (ECCN) 6A004 is amended:

a. By adding quotes around the term “components” in the heading; and

b. By adding a closing quotation mark after the first word in “items” paragraph c.4 in the List of Items Controlled section.

88. In Supplement No. 1 to part 774 (the Commerce Control List), Category 6—Sensors and Lasers, Export Control Classification Number (ECCN) 6A998 is amended by removing the quotes around the term “major components” and adding quotes back only around the term “components” in the heading.

89. In Supplement No. 1 to part 774 (the Commerce Control List), Category 6—Sensors and Lasers, Export Control Classification Number (ECCN) 6B995 is amended by revising the heading to read as follows:

6B995 Equipment, including tools, dies, fixtures or gauges, and other “specially designed” “parts,” “components” and “accessories” therefor, “specially designed” or modified for any of the following (see List of Items Controlled).

* * * * *

90. In Supplement No. 1 to part 774 (the Commerce Control List), Category 7—Navigation and Avionics, Export Control Classification Number (ECCN) 7D101 is amended by removing the term “the” and the period “.” in the MT entry in the License Requirements table.

91. In Supplement No. 1 to part 774 (the Commerce Control List), Category 8—Marine, Export Control Classification Number (ECCN) 8A018 is amended by adding quotes around the terms “specially designed” and “components” wherever they appear in this ECCN.

92. In Supplement No. 1 to part 774 (the Commerce Control List), Category 8—Marine, Export Control Classification Number (ECCN) 8A609 is amended by removing the second semicolon at the end of “items” paragraph y.8 in the List of Items Controlled section.

93. In Supplement No. 1 to part 774 (the Commerce Control List), Category 8—Marine, Export Control Classification Number (ECCN) 8A620 is amended by adding quotes around the terms “specially designed” and “components” in “items” paragraph f in the List of Items Controlled section.

94. In Supplement No. 1 to part 774 (the Commerce Control List), Category 8—Marine, Export Control Classification Number (ECCN) 8A992 is amended by removing “UN” from the Reasons for Control and by removing the UN entry in the License Requirements table.

95. In Supplement No. 1 to part 774 (the Commerce Control List), Category 8—Marine, Export Control Classification Number (ECCN) 8C609 is amended by revising the heading to read as follows:

8C609 Materials “specially designed” for the “development” or “production” of commodities controlled by 8A609 not elsewhere specified in the USML (see List of Items Controlled).

* * * * *

96. In Supplement No. 1 to part 774 (the Commerce Control List), Category 8—Marine, Export Control Classification Number (ECCN) 8E001 is amended by removing the term “software” and adding the term “technology” in its place in the TSR paragraph in the List Based License Exceptions section.

97. In Supplement No. 1 to part 774 (the Commerce Control List), Category 9—Aerospace and Propulsion, Export Control Classification Number (ECCN) 9A120 is amended by removing “2B352.h” and adding in its place “2B352.i” in the “Related Controls” paragraph in the List of Items Controlled section.

98. In Supplement No. 1 to part 774 (the Commerce Control List), Category 9—Aerospace and Propulsion, Export Control Classification Number (ECCN) 9A610 is amended:

a. By revising “items” paragraph h in the List of Items Controlled section;

b. By revising the introductory text of “items” paragraph y in the List of Items Controlled section; and

c. By adding a new paragraph y.30 to “items” paragraph y in the List of Items Controlled section to read as follows:

9A610 Military aircraft and related commodities, other than those enumerated in 9A991.a (see List of Items Controlled).

* * * * *

List of Items Controlled

* * * * *

Items:

* * * * *

h. Parachutes, paragliders, complete parachute canopies, harnesses, platforms, electronic release mechanisms “specially designed” for use with aircraft controlled by either USML paragraph VIII(a) or ECCN 9A610.a, and “equipment” “specially designed” for military high altitude parachutists, such as suits, special helmets, breathing systems, and navigation equipment.

* * * * *

y. Specific “parts,” “components,” “accessories,” and “attachments” “specially designed” for a commodity subject to control in this ECCN or a defense article in USML Category VIII and not elsewhere specified in the USML or the CCL, and other aircraft commodities “specially designed” for a military use, as follows, and “parts,” “components,” “accessories,” and “attachments” “specially designed” therefor:

* * * * *

y.30. “Parts,” “components,” “accessories,” and “attachments” for use in or with a commodity other than electronic items or navigation equipment controlled by ECCN 9A610.h.

99. In Supplement No. 1 to part 774 (the Commerce Control List), Category 9—Aerospace and Propulsion, Export Control Classification Number (ECCN) 9A619 is amended by revising the introductory text of “items” paragraph y in the List of Items Controlled section to read as follows:

9A619 Military gas turbine engines and related commodities (see List of Items Controlled).

* * * * *

List of Items Controlled

* * * * *

Items:

* * * * *

y. Specific “parts,” “components,” “accessories,” and “attachments” “specially designed” for a commodity subject to control in this ECCN or for a defense article in USML Category XIX and not elsewhere specified on the USML or in the CCL, and other commodities, as follows, and “parts,” “components,” “accessories,” and “attachments” “specially designed” therefor:

* * * * *

100. In Supplement No. 1 to part 774 (the Commerce Control List), Category 9—Aerospace and Propulsion, Export Control Classification Number (ECCN) 9A990 is amended by removing quotes from the term “major components” and adding quotes back only around the term “components” in “items” paragraphs b and c in the List of Items Controlled section.

101. In Supplement No. 1 to part 774 (the Commerce Control List), Category 9—Aerospace and Propulsion, Export Control Classification Number (ECCN) 9B115 is amended by removing “9A104” and adding in its place “9A103” in the “Related Controls” paragraph in the List of Items Controlled section.

102. In Supplement No. 1 to part 774 (the Commerce Control List), Category 9—Aerospace and Propulsion, Export Control Classification Number (ECCN) 9B116 is amended by removing “9A104” and adding in its place “9A103” in the “Related Controls” paragraph in the List of Items Controlled section.

103. In Supplement No. 1 to part 774 (the Commerce Control List), Category 9—Aerospace and Propulsion, Export Control Classification Number (ECCN) 9B610 is amended by revising the “Related Controls” paragraph in the List of Items Controlled section to read as follows:

9B610 Test, inspection, and production “equipment” and related commodities “specially designed” for the “development” or “production” of commodities enumerated or otherwise described in ECCN 9A610 or USML Category VIII (see List of Items Controlled).

* * * * *

List of Items Controlled

Related Controls: USML Category VIII(h)(1) controls “parts,” “components,” “accessories,” “equipment,” and “attachments” “specially designed” for the aircraft enumerated or otherwise described in Category VIII(h)(1), but does not control the commodities enumerated or otherwise described in ECCN 9B610. USML Category VIII(h)(2)-(26) controls other aircraft “parts,” “components,” “accessories,” “attachments,” “equipment,” and “systems.”

* * * * *

104. In Supplement No. 1 to part 774 (the Commerce Control List), Category 9—Aerospace and Propulsion, Export Control Classification Number (ECCN) 9B619 is amended:

a. By revising the heading; and

b. By revising the “Related Controls” paragraph in the List of Items Controlled section to read as follows:

9B619 Test, inspection, and production “equipment” and related commodities “specially designed” for the “development” or “production” of commodities enumerated or otherwise described in ECCN 9A619 or USML Category XIX (see List of Items Controlled).

* * * * *

List of Items Controlled

Related Controls: USML Category XIX(f)(1) controls “parts,” “components,” “accessories,” “equipment,” and “attachments” “specially designed” for the engines described in Category XIX(f)(1), but does not control the commodities enumerated or otherwise described in ECCN 9B619. USML Category XIX(f)(2)-(7) controls other engine “parts,” “components,” “accessories,” “attachments,” “equipment,” and “systems.”

* * * * *

105. In Supplement No. 1 to part 774 (the Commerce Control List), Category 9—Aerospace and Propulsion, Export Control Classification Number (ECCN) 9B991 is amended by revising the heading to read as follows:

9B991 “Specially designed” “equipment,” tooling or fixtures, not controlled by 9B001, for manufacturing or measuring gas turbine blades, vanes or tip shroud castings, as follows (see List of Items Controlled).

* * * * *

106. In Supplement No. 1 to part 774 (the Commerce Control List), Category 9—Aerospace and Propulsion, Export Control Classification Number (ECCN) 9E101 is amended by removing “9A104” and adding in its place “9A103” in the “Related Controls” paragraph in the List of Items Controlled section.

Supplement No. 4 to Part 774—[Amended]

107. In Supplement No. 4 to Part 774—Commerce Control List Order of Review, under paragraph (a)(5), in the second to last sentence, remove the phrase “Steps 4a and 4b” and add in its place “Steps 4.a and 4.b”.

Dated: May 21, 2014.
Kevin J. Wolf,
Assistant Secretary for Export Administration.

[FR Doc. 2014-12151 Filed 6-4-14; 8:45 am]

BILLING CODE 3510-33-P